DEPARTMENT OF COMMERCE

National Oceanic and Atmospheric Administration

50 CFR Part 679

[Docket No. 240227-0061; RTID 0648-XD436]

Fisheries of the Exclusive Economic Zone Off Alaska; Gulf of Alaska; Final 2024 and 2025 Harvest Specifications for Groundfish

AGENCY: National Marine Fisheries Service (NMFS), National Oceanic and Atmospheric Administration (NOAA), Commerce.

ACTION: Final rule; harvest specifications and closures.

SUMMARY: NMFS announces final 2024 and 2025 harvest specifications, apportionments, and Pacific halibut prohibited species catch limits for the groundfish fishery of the Gulf of Alaska (GOA). This action is necessary to establish harvest limits for groundfish during the remainder of the 2024 and the start of the 2025 fishing years and to accomplish the goals and objectives of the Fishery Management Plan for Groundfish of the Gulf of Alaska (FMP). The 2024 harvest specifications supersede those previously set in the final 2023 and 2024 harvest specifications, and the 2025 harvest specifications will be superseded in early 2025 when the final 2025 and 2026 harvest specifications are published. The intended effect of this action is to conserve and manage the groundfish resources in the GOA in accordance with the Magnuson-Stevens Fishery Conservation and Management Act (Magnuson-Stevens Act).

DATES: Harvest specifications and closures are effective at 1200 hours, Alaska local time (A.l.t.), March 4, 2024, through 2400 hours, A.l.t., December 31, 2025.

ADDRESSES: Electronic copies of the Final Alaska Groundfish Harvest Specifications Environmental Impact Statement (Final EIS), Record of Decision (ROD), and the annual Supplementary Information Reports (SIRs) to the EIS prepared for this action are available from https://www.regulations.gov. The 2023 Stock Assessment and Fishery Evaluation (SAFE) report for the groundfish resources of the GOA, dated November 2023, and SAFE reports for previous years are available from the North Pacific Fishery Management Council (Council) at 1007 West Third Avenue, Suite 400, Anchorage, AK 99501, phone 907-271-2809, or from the North Pacific Groundfish SAFE Report web page at https://www.fisheries.noaa.gov/alaska/population-assessments/north-pacific-groundfish-stock-assessments-and-fishery-evaluation.

FOR FURTHER INFORMATION CONTACT: Abby Jahn, 907-586-7416.

SUPPLEMENTARY INFORMATION: NMFS manages the GOA groundfish fisheries in the exclusive economic zone of the GOA under the FMP. The Council prepared the FMP under the authority of the Magnuson-Stevens Act (16 U.S.C. 1801 et seq.). Regulations governing U.S. fisheries and implementing the FMP appear at 50 CFR parts 600, 679, and 680.

The FMP and its implementing regulations require that NMFS, after consultation with the Council, specify the total allowable catch (TAC) for each target species, the sum of which must be within the optimum yield (OY) range of 116,000 to 800,000 metric tons (mt) (§ 679.20(a)(1)(i)(B) and § 679.20(a)(2)). Section 679.20(c)(1) further requires that NMFS publish and solicit public comment on proposed annual TACs and apportionments thereof, Pacific halibut prohibited species catch (PSC) limits, and seasonal allowances of pollock and Pacific cod. Upon consideration of those public comments, NMFS must publish a notification of final harvest specifications for up to 2 fishing years as annual TACs and apportionments, Pacific halibut PSC limits, and seasonal allowances of pollock and Pacific cod, per § 679.20(c)(3)(ii). The final harvest specifications set forth in tables 1 through 27 of this rule reflect the outcome of this process, as required at § 679.20(c).

The proposed 2024 and 2025 harvest specifications for groundfish of the GOA and Pacific halibut PSC limits were published in the Federal Register on December 7, 2023 (88 FR 85184). Comments were invited and accepted through January 8, 2024. NMFS received 2 letters raising 7 distinct comments during the public comment period for the proposed GOA groundfish harvest specifications. In December 2023, NMFS consulted with the Council regarding the 2024 and 2025 harvest specifications. After considering public comment at public meetings and submitted for the proposed rule (88 FR 85184), as well as current biological, ecosystem, and socioeconomic data, NMFS is implementing the final 2024 and 2025 harvest specifications, as recommended by the Council. For 2024, the sum of the TAC amounts is 520,020 mt. For 2025, the sum of the TAC amounts is 483,700 mt.

Other Actions Affecting the 2024 and 2025 Harvest Specifications

Amendment 122 to the Bering Sea and Aleutian Islands FMP: Pacific Cod Trawl Cooperative Program

NMFS published a final rule implementing Amendment 122 to the Fishery Management Plan for Groundfish of the Bering Sea and Aleutian Islands (BSAI) Management Area (BSAI FMP) (88 FR 53704, August 8, 2023), establishing the Pacific Cod Trawl Cooperative Program (PCTC Program) to allocate BSAI Pacific cod quota share to qualifying groundfish License Limitation Program (LLP) license holders and qualifying processors. The PCTC Program is a limited access privilege program for the harvest of Pacific cod in the BSAI trawl catcher vessel (CV) sector.

The PCTC Program modifies existing GOA sideboard limits and associated GOA halibut PSC limits for non-exempt American Fisheries Act (AFA) CVs and LLP license holders and closes directed fishing where the revised sideboard limits are too small to support a directed fishery. All GOA non-exempt AFA CVs and associated AFA LLP licenses are sideboarded in aggregate for all GOA groundfish fishing activity and for GOA halibut PSC based on their GOA catch history during the qualifying years 2009 through 2019, except when participating in the Central Gulf of Alaska (Central GOA) Rockfish Program. In addition, the ratio used to apportion GOA halibut PSC limits is modified, and the five seasonal apportionments based on that sideboard ratio is reduced to a single aggregate annual amount. Amendment 122 also closes directed fishing to all GOA non-exempt AFA CVs and LLP licenses for the following species categories: Southeast Outside (SEO) District of the Eastern GOA pollock, Western GOA shallow-water flatfish, Central and Eastern GOA deep-water flatfish, Central GOA dusky rockfish, and Eastern GOA and Central GOA Pacific ocean perch. NMFS will no longer publish AFA Program sideboard limits for these specific species or species groups in the Federal Register as part of the annual groundfish harvest specifications, and instead table 56 to 50 CFR part 679 lists that directed fishing for these species is prohibited to non-exempt AFA CVs. Amendment 122 and its implementing regulations affect the calculation and establishment of the groundfish sideboard limits and halibut PSC limits discussed below under the sections “American Fisheries Act (AFA) Catcher/Processor and Catcher Vessel Groundfish Harvest Limits” and “Non-Exempt AFA Catcher Vessel Halibut PSC Limits.”

Acceptable Biological Catch (ABC) and TAC Specifications

In December 2023, the Council's Scientific and Statistical Committee (SSC), its Advisory Panel (AP), and the Council reviewed the most recent biological, ecosystem, socioeconomic, and harvest information about the condition of the GOA groundfish stocks. The Council's GOA Groundfish Plan Team (Plan Team) compiled and presented this information in the 2023 SAFE report for the GOA groundfish fisheries, dated November 2023 (see ADDRESSES). The SAFE report contains a review of the latest scientific analyses and estimates of each species' biomass and other biological parameters, as well as summaries of the available information on the GOA ecosystem by including risk tables and information from the GOA Ecosystem Status Report (ESR).

The ESRs compile and summarize information about the status of the Alaska marine ecosystems for the Plan Team, SSC, AP, Council, NMFS, and the public, and they are updated annually. These ESRs include ecosystem report cards, ecosystem assessments, and ecosystem status indicators (i.e., climate indices, sea surface temperature), which together provide context for ecosystem-based fisheries management in Alaska. The ESRs inform stock assessments and are integrated in the annual harvest recommendations through inclusion in stock assessment-specific risk tables. The ESRs provide context for the SSC's recommendations for OFLs and ABCs, as well as for the Council's TAC recommendations. The SAFE reports and the ESRs are presented to the Plan Team and at the October and December Council meetings before the SSC, AP, and Council make groundfish harvest recommendations and aid NMFS in implementing these annual groundfish harvest specifications.

The SAFE report also includes information on the economic condition of the groundfish fisheries off Alaska through the Economic Status Report. The SAFE report provides information to the Council and NMFS for recommending and setting, respectively, annual harvest levels for each stock, documenting significant trends or changes in the resource, marine ecosystems, and fisheries over time, and assessing the relative success of existing Federal fishery management programs. From these data and analyses, the Plan Team recommends, and the SSC sets, an overfishing level (OFL) and ABC for each species and species group. The 2023 SAFE report was made available for public review during the public comment period for the proposed harvest specifications.

In previous years, the greatest changes from the proposed to the final harvest specifications were based on recent NMFS stock surveys, which provide updated estimates of stock biomass and spatial distribution, and changes to the models used for producing stock assessments. At the November 2023 Plan Team meeting, NMFS scientists presented updated and new survey results, changes to stock assessment models, and accompanying stock assessment estimates for groundfish species and species groups that are included in the 2023 SAFE report per the stock assessment schedule found in the 2023 SAFE report introduction. The SSC reviewed this information at the December 2023 Council meeting. Changes from the proposed to the final 2024 and 2025 harvest specifications are discussed below.

The final 2024 and 2025 OFLs and ABCs are based on the best scientific information available, including projected biomass trends, information on assumed distribution of stock biomass, and revised methods used to calculate stock biomass, and the final 2024 and 2025 TACs are based on the best scientific and socioeconomic information available. The FMP specifies the formulas, or tiers, to be used to compute OFLs and ABCs. The formulas applicable to a particular stock or stock complex are determined by the level of reliable information available to fisheries scientists. This information is categorized into a successive series of six tiers to define OFL and ABC amounts, with Tier 1 representing the highest level of information quality available and Tier 6 representing the lowest level of information quality available. The Plan Team used the FMP tier structure to calculate OFL and ABC amounts for each groundfish species. The SSC adopted the final 2024 and 2025 OFLs and ABCs recommended by the Plan Team, with the exception of the ABC for pollock in the combined Western and Central Regulatory Areas and the West Yakutat District of the Eastern Regulatory Area (the W/C/WYK), and the ABC apportionments by area for shortraker rockfish and other rockfish.

For pollock, the SSC did not accept the GOA Plan Team's recommended ABC because of concerns about discrepancies between model predicted and survey trends. Instead, the SSC recommended a reduction from max ABC for 2024.

For shortraker rockfish sub-area apportionments of ABC, the Plan Team deliberated on the author's recommended model change because the new apportionment method of using both trawl and longline indices may constrain fisheries within the Central GOA. The Plan Team recommended accepting the new apportionment method but applying a stair-step between the methods to alleviate concerns highlighted by the public during the meeting. The SSC received public testimony that also highlighted allocation limitations. Public testimony asserted that there is a high probability that the reduction in a Central GOA sub-area apportionment of ABC could result in fishery closure. Sub-area apportionments of ABCs may be a constraint when species are allocated to catch share programs or sectors through regulation. As there is no current conservation concern for shortraker rockfish, the SSC recommended the status quo apportionment method. The SSC acknowledges that this differs from the author and Plan Team recommendation for this stock as well as the SSC recommendation for GOA rougheye and blackspotted rockfish, which uses both trawl and longline indices for apportionment.

For other rockfish sub-area apportionments of ABC, the Plan Team recommended that the W/C and WYK sub-area ABCs be combined for 2025. The Plan Team rationale for this recommendation is that these non-target species are poorly sampled by the trawl survey, there are no major changes in fishing behavior, good species-specific catch data is available, and most of the biomass is in the Southeast Outside (SEO) District of the Eastern Regulatory Area where trawling is prohibited. Further, recent analyses suggest there is little to no genetic structure in rockfish in general, and evidence of local depletion has not been observed. The Plan Team recommended that the Council engage in the Spatial Management Policy for this stock. After discussing this recommendation and considering related public testimony, the SSC agreed with the Plan Team recommendation for 2024. This change will align with the ABC apportionment for GOA Demersal Shelf Rockfish (DSR) when they are moved to a separate assessment for the 2025 fishery.

For Pacific ocean perch, the Plan Team recommended specifying a GOA-wide OFL for consistency with stock definition and stock status determination criteria. The SSC agreed with the Plan Team's recommendation.

The Council adopted the SSC's OFLs and ABCs and the AP's TAC recommendations. The final TAC recommendations are based on the ABCs and are adjusted for other biological and socioeconomic considerations, including maintaining the sum of all TACs within the required OY range of 116,000 to 800,000 mt.

The Council recommended 2024 and 2025 TACs that are equal to ABCs for pollock in the SEO District, sablefish, shallow-water flatfish in the Central GOA and WYK and SEO Districts, deep-water flatfish, rex sole, arrowtooth flounder in the Central GOA and WYK District, flathead sole in the Central GOA and WYK and SEO Districts, Pacific ocean perch; northern rockfish, shortraker rockfish, dusky rockfish, rougheye and blackspotted rockfish, demersal shelf rockfish, thornyhead rockfish, other rockfish in the W/C/WYK, Atka mackerel, big skate, longnose skate, other skates, sharks, and octopuses in the GOA. The Council recommended TACs for 2024 and 2025 that are less than the ABCs for pollock, Pacific cod, shallow-water flatfish in the Western Regulatory Area (Western GOA), arrowtooth flounder in the Western GOA and SEO District, flathead sole in the Western GOA, and other rockfish in the SEO District. For sub-area apportionments of ABCs, refer to tables 1 and 2.

The combined W/C/WYK pollock TAC and the GOA Pacific cod TACs are set to accommodate the State of Alaska's (State's) guideline harvest levels (GHLs) so that the ABCs for pollock and Pacific cod are not exceeded. The Western GOA shallow-water flatfish, Western GOA arrowtooth flounder, and Western GOA flathead sole TACs are set to allow for increased harvest opportunities for these target species while conserving the halibut PSC limit for use in other, more fully utilized fisheries. Similarly, the SEO District arrowtooth flounder TAC is set lower than ABC to conserve halibut PSC limit for use in other fisheries or because there is limited commercial interest and participation in this fishery. The other rockfish TAC in the SEO District is set to reduce the amount of discards of the species in that complex.

The final 2024 and 2025 harvest specifications approved by the Secretary of Commerce are unchanged from those recommended by the Council and are consistent with the preferred harvest strategy alternative outlined in the FMP, as well as the Final EIS and ROD, because they were set through the harvest specifications process, none of the TACs exceed the recommended ABCs, and the sum of all TACs is within the OY range (see ADDRESSES).

NMFS finds that the Council's recommended OFLs, ABCs, and TACs are consistent with the biological condition of the groundfish stocks as described in the final 2023 SAFE report, while also accounting for ecosystem and socioeconomic information presented in the 2023 SAFE report (which includes the GOA ESR). NMFS also finds that the Council's recommendations for TACs are consistent with the biological condition of groundfish stocks as adjusted for other biological and socioeconomic considerations, including maintaining the sum of all TACs within the OY range. NMFS reviewed the Council's recommended TACs and apportionments, and NMFS approves these harvest specifications under § 679.20(c)(3)(ii). The apportionment of TAC amounts among gear types and sectors, processing sectors, and seasons is discussed below.

Tables 1 and 2 list the final 2024 and 2025 OFLs, ABCs, TACs, and area apportionments of groundfish in the GOA. The 2024 harvest specifications set in this final action supersede the 2024 harvest specifications previously set in the final 2023 and 2024 harvest specifications (88 FR 13238, March 2, 2023). The 2025 harvest specifications will be superseded in early 2025 when the final 2025 and 2026 harvest specifications are published. Pursuant to this final action, the 2024 harvest specifications therefore will apply for the remainder of the current year (2024), while the 2025 harvest specifications are projected only for the following year and will be superseded in early 2025 by the final 2025 and 2026 harvest specifications. Because this final action will be superseded in early 2025 by the publication of the final 2025 and 2026 harvest specifications, it is projected that this final action will implement the harvest specifications for the GOA for approximately 1 year.

Specification and Apportionment of TAC Amounts

NMFS's apportionment of groundfish species are based on the distribution of biomass among the regulatory areas over which NMFS manages the species. Additional regulations that govern the apportionment of pollock, Pacific cod, and sablefish and are described below.

The ABC for the pollock stock in the combined W/C/WYK includes the amount for the GHL established by the State for the Prince William Sound (PWS) pollock fishery. The Plan Team, SSC, AP, and Council have recommended that the sum of all State waters and Federal waters pollock removals from the GOA not exceed ABC recommendations. For 2024 and 2025, the SSC recommended and the Council approved the W/C/WYK pollock ABC, including the amount to account for the State's PWS GHL. At the November 2023 Plan Team meeting, State fisheries managers recommended setting the PWS pollock GHL at 2.5 percent of the annual W/C/WYK pollock ABC. For 2024, this yields a PWS pollock GHL of 4,769 mt, an increase of 18 percent from the 2023 PWS pollock GHL of 4,027 mt. For 2025, the PWS pollock GHL is 3,942 mt, a decrease of 17 percent from the 2024 PWS pollock GHL of 4,769 mt. After the GHL reductions, the 2024 and 2025 pollock ABCs for the combined W/C/WYK areas are then apportioned between four statistical areas (Areas 610, 620, 630, and 640) as both ABCs and TACs, as described below and detailed in tables 1 and 2. The ABCs and TACs for the four statistical areas, plus the State PWS GHL, do not exceed the combined W/C/WYK ABC.

Apportionments of pollock to the W/C/WYK areas are considered to be “apportionments of annual catch limits (ACLs)” rather than “ABCs.” This more accurately reflects that such apportionments address management, rather than biological or conservation, concerns. In addition, apportionments of the ACL in this manner allow NMFS to balance any transfer of TAC among Areas 610, 620, and 630 pursuant to § 679.20(a)(5)(iv)(B) to ensure that the combined apportionments of ACL and ABC for the W/C/WYK, as well as the W/C/WYK TAC, are not exceeded.

NMFS establishes pollock TACs in the Western (Area 610) and Central (Areas 620 and 630) Regulatory Areas and the West Yakutat (Area 640) and the SEO (Area 650) Districts of the GOA (see tables 1 and 2). NMFS also establishes seasonal apportionments of the annual pollock TACs in the Western and Central Regulatory Areas of the GOA among Statistical Areas 610, 620, and 630. Additional detail on area apportionments and seasonal allowances is provided in the Apportionments of Pollock TAC Among Seasons and Regulatory Areas, and Allocations for Processing by Inshore and Offshore Components section of this rule; tables 3 and 4 list these amounts.

The 2024 and 2025 Pacific cod TACs are set to accommodate the State's GHLs for Pacific cod in State waters in the Western and Central Regulatory Areas, as well as in PWS (in the Eastern Regulatory Area). The Plan Team, SSC, AP, and Council recommended that the sum of all State waters and Federal waters Pacific cod removals from the GOA not exceed ABC recommendations. The Council recommended setting the 2024 and 2025 Pacific cod TACs in the Western, Central, and Eastern Regulatory Areas to account for State GHLs. Therefore, the 2024 Pacific cod TACs are less than the ABCs by the following amounts: (1) Western GOA, 2,624 mt; (2) Central GOA, 5,148 mt; and (3) Eastern GOA, 734 mt. The 2025 Pacific cod TACs are less than the ABCs by the following amounts: (1) Western GOA, 2,291 mt; (2) Central GOA, 4,495 mt; and (3) Eastern GOA, 641 mt. These amounts reflect the State's 2024 and 2025 GHLs in these areas, which are 30 percent of the Western GOA ABC and 25 percent of the Eastern and Central GOA ABCs.

The Western and Central GOA Pacific cod TACs are allocated among various gear and operational sectors. NMFS also establishes seasonal apportionments of the annual Pacific cod TACs in the Western and Central Regulatory Areas. The Pacific cod sector and seasonal apportionments are discussed in detail in the Annual and Seasonal Apportionments of Pacific Cod TAC section and in tables 5 and 6 of this rule.

The Council's recommendation for sablefish area apportionments takes into account the prohibition on the use of trawl gear in the SEO District of the Eastern Regulatory Area (§ 679.7(b)(1)) and makes available 5 percent of the combined Eastern Regulatory Area TACs to vessels using trawl gear for use as incidental catch in other trawl groundfish fisheries in the WYK District (§ 679.20(a)(4)(i)). Tables 7 and 8 list the final 2024 and 2025 allocations of sablefish TAC to fixed gear and trawl gear in the GOA.

Changes From the Proposed 2024 and 2025 Harvest Specifications in the GOA

In October 2023, the Council's recommendations for the proposed 2024 and 2025 harvest specifications (88 FR 85184, December 7, 2023) were based largely on information contained in the final 2022 SAFE report for the GOA groundfish fisheries, dated November 2022. The final 2022 SAFE report for the GOA is available from the Council (see ADDRESSES). The Council proposed that the final OFLs, ABCs, and TACs established for the 2024 groundfish fisheries (88 FR 13238, March 2, 2023) be used for the proposed 2024 and 2025 harvest specifications (88 FR 85184, December 7, 2023) pending completion and review of the 2023 SAFE report at the Council's December 2023 meeting.

As described previously, the SSC recommended the final 2024 and 2025 OFLs and ABCs as recommended by the Plan Team, with the exception of the 2024 pollock ABC and the shortraker rockfish and other rockfish ABC apportionments by subareas. The Council adopted as its recommendations the SSC's OFL and ABC recommendations and the AP's TAC recommendations for 2024 and 2025.

The final 2024 TACs are higher than the proposed 2024 TACs published in the proposed 2024 and 2025 harvest specifications (88 FR 85184, December 7, 2023) for pollock, Pacific cod, sablefish, shallow-water flatfish, deep-water flatfish, rex sole, arrowtooth flounder, flathead sole, Pacific ocean perch, northern rockfish, dusky rockfish, rougheye and blackspotted rockfish, other rockfish, and Atka mackerel. The final 2024 TACs are lower than the proposed 2024 TACs for shortraker rockfish, big skate, longnose skate, and other skates.

The final 2025 TACs are higher than the proposed 2025 GOA TACs for Pacific cod, sablefish, shallow-water flatfish, deep-water flatfish, rex sole, arrowtooth flounder, flathead sole, Pacific ocean perch, rougheye and blackspotted rockfish, other rockfish, and Atka mackerel. The final 2025 TACs are lower than the proposed 2025 TACs for pollock, northern rockfish, shortraker rockfish, dusky rockfish, big skates, longnose skates, and other skates. For the remaining target species (i.e., demersal shelf rockfish, thornyhead rockfish, sharks, and octopus), the Council recommended the final 2024 and 2025 TACs that are the same as the proposed 2024 and 2025 TACs.

Additional information explaining the changes between the proposed and final ABCs is included in the final 2023 SAFE report, which was not completed and available when the Council made its proposed ABC and TAC recommendations in October 2023. At that time, the most recent stock assessment information was contained in the final 2022 SAFE report. For the final specifications, the final 2023 SAFE report contains the best and most recent scientific information on the condition of the groundfish stocks, harvest information, and ecosystem and socioeconomic information, as previously discussed in this preamble, and is available for review (see ADDRESSES). The Council considered the 2023 SAFE report in December 2023 when it made recommendations for the final 2024 and 2025 harvest specifications. In the GOA, the total final 2024 TAC amount is 520,020 mt, an increase of 9.1 percent from the total proposed 2024 TAC amount of 476,537 mt. The total final 2025 TAC amount is 483,700 mt, an increase of 1.5 percent from the total proposed 2025 TAC amount of 476,537 mt. Table 1a summarizes the difference between the proposed and final TACs.

Annual stock assessments incorporate a variety of new or revised inputs, such as survey data or catch information, as well as changes to the statistical models used to estimate a species' biomass and population trend. Changes to biomass and ABC estimates are primarily based on fishery catch updates to species' assessment models.

The changes for individual species or species groups from the proposed 2024 TACs to the final 2024 TACs are within a range of plus 57 percent or minus 32 percent, and the changes from the proposed 2025 TACs to the final 2025 TACs are within a range of plus 57 percent or minus 32 percent. Differences in TACs are based on changes in the estimates of overall biomass in the stock assessment for 2024 and 2025, as compared to the estimates previously made for 2023 and 2024. For 2024, the species or species group with TAC increases greater than 10 percent are pollock, Pacific cod, deep-water flatfish, rougheye and blackspotted rockfish, and Atka mackerel. For 2025, the species or species group with TAC increases greater than ten percent are Pacific cod, deep-water flatfish, rougheye and blackspotted rockfish, and Atka mackerel. Based on changes in the estimates of biomass, the species group with TAC percentage decreases greater than ten percent are other skates for 2024 and 2025. For all other species and species groups, changes from the proposed 2024 and 2025 TACs to the final 2024 and 2025 TACs are a 10 percent or less change (either increase or decrease). These TAC changes correspond to associated changes in the OFLs and ABCs, as recommended by the SSC, AP, and Council.

Detailed information providing the basis for the changes described above are contained in the final 2023 SAFE report. The final TACs are based on the best scientific information available, including biological and socioeconomic information. These TACs are specified in compliance with the harvest strategy from the FMP and Final EIS and as described in the proposed and final rules for the 2024 and 2025 harvest specifications.

Table 1a—Comparison of Proposed and Final 2024 and 2025 GOA Total Allowable Catch Limits
[Values are rounded to the nearest metric ton and percentage]
Species | 2024 and 2025 proposed TAC | 2024 Final TAC | 2024 Final minus 2024 proposed TAC | Percentage difference | 2025 Final TAC | 2025 Final minus 2025 proposed TAC | Percentage difference
Pollock | 168,416 | 195,720 | 27,304 | 16 | 168,416 | −4,922 | −3
Pacific cod | 16,668 | 23,766 | 7,098 | 43 | 16,668 | 4,089 | 25
Sablefish | 21,095 | 22,596 | 1,501 | 7 | 21,095 | 1,600 | 8
Shallow-water flatfish | 45,425 | 45,478 | 53 | 0 | 45,425 | 666 | 1
Deep-water flatfish | 5,719 | 7,062 | 1,343 | 23 | 5,719 | 1,234 | 22
Rex sole | 21,097 | 21,364 | 267 | 1 | 21,097 | 206 | 1
Arrowtooth flounder | 93,389 | 94,141 | 752 | 1 | 93,389 | 547 | 1
Flathead sole | 35,839 | 35,880 | 41 | 0 | 35,839 | 548 | 2
Pacific ocean perch | 36,196 | 39,719 | 3,523 | 10 | 36,196 | 2,158 | 6
Northern rockfish | 4,741 | 4,815 | 74 | 2 | 4,741 | −95 | −2
Shortraker rockfish | 705 | 647 | −58 | −8 | 705 | −58 | −8
Dusky rockfish | 7,520 | 7,624 | 104 | 1 | 7,520 | −295 | −4
Rougheye/blackspotted rockfish | 772 | 1,037 | 265 | 34 | 772 | 269 | 35
Demersal shelf rockfish | 283 | 283 | 0 | 0 | 283 | 0 | 0
Thornyhead rockfish | 1,628 | 1,628 | 0 | 0 | 1,628 | 0 | 0
Other rockfish | 1,610 | 1,653 | 43 | 3 | 1,610 | 43 | 3
Atka mackerel | 3,000 | 4,700 | 1,700 | 57 | 3,000 | 1,700 | 57
Big skate | 2,867 | 2,835 | −32 | −1 | 2,867 | −32 | −1
Longnose skate | 2,712 | 2,536 | −176 | −6 | 2,712 | −176 | −6
Other skates | 984 | 665 | −319 | −32 | 984 | −319 | −32
Sharks | 4,891 | 4,891 | 0 | 0 | 4,891 | 0 | 0
Octopuses | 980 | 980 | 0 | 0 | 980 | 0 | 0
Total | 476,537 | 520,020 | 43,483 | 9.1 | 483,700 | 7,163 | 1.5

The final 2024 and 2025 TAC amounts for the GOA are within the OY range established for the GOA and do not exceed the ABC for any species or species group. The ABC does not exceed the OFL for any species or species group. Tables 1 and 2 list the final OFL, ABC, and TAC amounts for GOA groundfish for 2024 and 2025, respectively.

Table 1—Final 2024 OFLs, ABCs, and TACs of Groundfish for the Western/Central/West Yakutat, Western, Central, Eastern Regulatory Areas, the West Yakutat and Southeast Outside Districts of the Eastern Regulatory Area, and Gulfwide Districts of the Gulf of Alaska
[Values are rounded to the nearest metric ton]
Species | Area ¹ | OFL | ABC | TAC
Pollock ² | Shumagin (610) | n/a | 38,882 | 38,882
| Chirikof (620) | n/a | 90,937 | 90,937
| Kodiak (630) | n/a | 50,587 | 50,587
| WYK (640) | n/a | 5,565 | 5,565
| W/C/WYK (subtotal) ² | 269,916 | 190,740 | 185,971
| SEO (650) | 12,998 | 9,749 | 9,749
| Total | 282,914 | 200,489 | 195,720
Pacific cod ³ | W | n/a | 8,745 | 6,121
| C | n/a | 20,590 | 15,442
| E | n/a | 2,937 | 2,203
| Total | 38,712 | 32,272 | 23,766
Sablefish ⁴ | W | n/a | 4,699 | 4,699
| C | n/a | 9,651 | 9,651
| WYK | n/a | 2,926 | 2,926
| SEO | n/a | 5,320 | 5,320
| Subtotal TAC | n/a | n/a | 22,596
| Total | 55,084 | 47,146 | n/a
Shallow-water flatfish ⁵ | W | n/a | 23,337 | 13,250
| C | n/a | 27,783 | 27,783
| WYK | n/a | 2,778 | 2,778
| SEO | n/a | 1,667 | 1,667
| Total | 68,121 | 55,565 | 45,478
Deep-water flatfish ⁶ | W | n/a | 237 | 237
| C | n/a | 2,655 | 2,655
| WYK | n/a | 1,856 | 1,856
| SEO | n/a | 2,314 | 2,314
| Total | 8,387 | 7,062 | 7,062
Rex sole | W | n/a | 3,367 | 3,367
| C | n/a | 13,639 | 13,639
| WYK | n/a | 1,453 | 1,453
| SEO | n/a | 2,905 | 2,905
| Total | 25,978 | 21,364 | 21,364
Arrowtooth flounder | W | n/a | 30,409 | 14,500
| C | n/a | 64,871 | 64,871
| WYK | n/a | 7,870 | 7,870
| SEO | n/a | 16,099 | 6,900
| Total | 142,485 | 119,249 | 94,141
Flathead sole | W | n/a | 13,273 | 8,650
| C | n/a | 21,307 | 21,307
| WYK | n/a | 3,876 | 3,876
| SEO | n/a | 2,047 | 2,047
| Total | 49,414 | 40,503 | 35,880
Pacific ocean perch ⁷ | W | n/a | 1,787 | 1,787
| C | n/a | 28,757 | 28,757
| WYK | n/a | 2,110 | 2,110
| SEO | n/a | 7,065 | 7,065
| Total | 47,466 | 39,719 | 39,719
Northern rockfish ⁸ | W | n/a | 2,535 | 2,535
| C | n/a | 2,280 | 2,280
| E | n/a | 0 | 0
| Total | 5,750 | 4,815 | 4,815
Shortraker rockfish ⁹ | W | n/a | 34 | 34
| C | n/a | 189 | 189
| E | n/a | 424 | 424
| Total | 863 | 647 | 647
Dusky rockfish ¹⁰ | W | n/a | 145 | 145
| C | n/a | 7,365 | 7,365
| WYK | n/a | 84 | 84
| SEO | n/a | 30 | 30
| Total | 9,281 | 7,624 | 7,624
Rougheye and Blackspotted rockfish ¹¹ | W | n/a | 197 | 197
| C | n/a | 315 | 315
| E | n/a | 525 | 525
| Total | 1,555 | 1,037 | 1,037
Demersal shelf rockfish ¹² | SEO | 376 | 283 | 283
Thornyhead rockfish¹³ | W | n/a | 314 | 314
| C | n/a | 693 | 693
| E | n/a | 621 | 621
| Total | 2,170 | 1,628 | 1,628
Other rockfish ¹⁴ ¹⁵ | W/C/WYK | n/a | 1,353 | 1,353
| SEO | n/a | 2,421 | 300
| Total | 4,977 | 3,774 | 1,653
Atka mackerel | GW | 6,200 | 4,700 | 4,700
Big skate ¹⁶ | W | n/a | 745 | 745
| C | n/a | 1,749 | 1,749
| E | n/a | 341 | 341
| Total | 3,780 | 2,835 | 2,835
Longnose skate ¹⁷ | W | n/a | 104 | 104
| C | n/a | 1,894 | 1,894
| E | n/a | 538 | 538
| Total | 3,380 | 2,536 | 2,536
Other skates ¹⁸ | GW | 887 | 665 | 665
| GW | 6,521 | 4,891 | 4,891
| GW | 1,307 | 980 | 980
Total |  | 765,608 | 599,784 | 520,020
¹ Regulatory areas and districts are defined at § 679.2. (W = Western Gulf of Alaska; C = Central Gulf of Alaska; E = Eastern Gulf of Alaska; WYK = West Yakutat District; SEO = Southeast Outside District; GW = Gulf-wide).
² The total for the W/C/WYK Regulatory Areas pollock ABC is 190,740 mt. After deducting 2.5 percent (4,769 mt) of that ABC for the State's pollock GHL fishery, the remaining pollock ABC of 185,971 mt (for the W/C/WYK Regulatory Areas) is apportioned among four statistical areas (Areas 610, 620, 630, and 640). These apportionments are considered subarea ACLs, rather than ABCs, for specification and reapportionment purposes. The ACLs in Areas 610, 620, and 630 are further divided by season, as detailed in table 3 (final 2024 seasonal biomass distribution of pollock in the Western and Central Regulatory Areas, area apportionments, and seasonal allowances). In the West Yakutat (Area 640) and Southeast Outside (Area 650) Districts of the Eastern Regulatory Area, pollock are not divided into seasonal allowances.
³ The annual Pacific cod TAC is apportioned, after seasonal apportionment to the jig sector, as follows: (1) 63.84 percent to the A season and 36.16 percent to the B season and (2) 64.16 percent to the A season and 35.84 percent to the B season in the Western and Central Regulatory Areas of the GOA, respectively. Pacific cod TAC in the Eastern Regulatory Area of the GOA is allocated 90 percent to vessels harvesting Pacific cod for processing by the inshore component and 10 percent to vessels harvesting Pacific cod for processing by the offshore component. Table 5 lists the final 2024 Pacific cod seasonal apportionments and sector allocations.
⁴ The sablefish OFL and ABC are set Alaska-wide (55,084 mt and 47,146 mt, respectively), and the Alaska-wide totals are included in the total OFL and ABC in table 1. Additionally, sablefish TAC is allocated to trawl and fixed gear in 2024 and trawl gear in 2025. Table 7 lists the final 2024 allocations of sablefish TACs.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes, the 1 mt apportionment of ABC to the WYK District of the Eastern Gulf of Alaska has been included in the other rockfish species group.
⁹ “Shortraker rockfish” means Sebastes borealis.
¹⁰ “Dusky rockfish” means Sebastes variabilis.
¹¹ “Rougheye and blackspotted rockfish” mean Sebastes aleutianus (rougheye) and S. melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Thornyhead rockfish” means Sebastolobus species.
¹⁴ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, “other rockfish” also includes northern rockfish, S. polyspinis.
¹⁵ “Other rockfish” in the Western and Central Regulatory Areas and in the West Yakutat District means other rockfish and demersal shelf rockfish. The “other rockfish” species group in the SEO District only includes “other rockfish.”
¹⁶ “Big skate” means Beringraja binoculata.
¹⁷ “Longnose skate” means Raja rhina.
¹⁸ “Other skates” mean Bathyraja spp.

Table 2—Final 2025 OFLs, ABCs, and TACs of Groundfish for the Western/Central/West Yakutat, Western, Central, Eastern Regulatory Areas, the West Yakutat and Southeast Outside Districts of the Eastern Regulatory Area, and Gulfwide Districts of the Gulf of Alaska
[Values are rounded to the nearest metric ton]
Species | Area ¹ | OFL | ABC | TAC
Pollock ² | Shumagin (610) | n/a | 32,144 | 32,144
| Chirikof (620) | n/a | 75,179 | 75,179
| Kodiak (630) | n/a | 41,821 | 41,821
| WYK (640) | n/a | 4,601 | 4,601
| W/C/WYK (subtotal) ² | 182,891 | 157,687 | 153,745
| SEO (650) | 12,998 | 9,749 | 9,749
| Total | 195,889 | 167,436 | 163,494
Pacific cod ³ | W | n/a | 7,638 | 5,347
| C | n/a | 17,981 | 13,486
| E | n/a | 2,565 | 1,924
| Total | 33,970 | 28,184 | 20,757
Sablefish ⁴ | W | n/a | 4,719 | 4,719
| C | n/a | 9,693 | 9,693
| WYK | n/a | 2,940 | 2,940
| SEO | n/a | 5,343 | 5,343
| Subtotal TAC | n/a | n/a | 22,695
| Total | 55,317 | 47,350 | n/a
Shallow-water flatfish ⁵ | W | n/a | 23,782 | 13,250
| C | n/a | 28,311 | 28,311
| WYK | n/a | 2,831 | 2,831
| SEO | n/a | 1,699 | 1,699
| Total | 69,354 | 56,623 | 46,091
Deep-water flatfish ⁶ | W | n/a | 234 | 234
| C | n/a | 2,614 | 2,614
| WYK | n/a | 1,827 | 1,827
| SEO | n/a | 2,278 | 2,278
| Total | 8,257 | 6,953 | 6,953
Rex sole | W | n/a | 3,363 | 3,363
| C | n/a | 13,624 | 13,624
| WYK | n/a | 1,439 | 1,439
| SEO | n/a | 2,877 | 2,877
| Total | 25,900 | 21,303 | 21,303
Arrowtooth flounder | W | n/a | 30,323 | 14,500
| C | n/a | 64,688 | 64,688
| WYK | n/a | 7,848 | 7,848
| SEO | n/a | 16,053 | 6,900
| Total | 142,074 | 118,912 | 93,936
Flathead sole | W | n/a | 13,521 | 8,650
| C | n/a | 21,702 | 21,702
| WYK | n/a | 3,949 | 3,949
| SEO | n/a | 2,086 | 2,086
| Total | 50,322 | 41,258 | 36,387
Pacific ocean perch ⁷ | W | n/a | 1,726 | 1,726
| C | n/a | 27,768 | 27,768
| WYK | n/a | 2,038 | 2,038
| SEO |  | 6,822 | 6,822
| Total | 45,835 | 38,354 | 38,354
Northern rockfish ⁸ | W | n/a | 2,446 | 2,446
| C | n/a | 2,200 | 2,200
| E | n/a |  |
| Total | 5,548 | 4,646 | 4,646
Shortraker rockfish ⁹ | W | n/a | 34 | 34
| C | n/a | 189 | 189
| E | n/a | 424 | 424
| Total | 863 | 647 | 647
Dusky rockfish ¹⁰ | W | n/a | 137 | 137
| C | n/a | 6,979 | 6,979
| WYK | n/a | 81 | 81
| SEO | n/a | 28 | 28
| Total | 8,796 | 7,225 | 7,225
Rougheye and Blackspotted rockfish ¹¹ | W | n/a | 198 | 198
| C | n/a | 317 | 317
| E | n/a | 526 | 526
| Total | 1,566 | 1,041 | 1,041
Demersal shelf rockfish ¹² | SEO | 376 | 283 | 283
Thornyhead rockfish ¹³ | W | n/a | 314 | 314
| C | n/a | 693 | 693
| E | n/a | 621 | 621
| Total | 2,170 | 1,628 | 1,628
Other rockfish ¹⁴ ¹⁵ | W/C/WYK | n/a | 1,353 | 1,353
| SEO | n/a | 2,421 | 300
| Total | 4,977 | 3,774 | 1,653
Atka mackerel | GW | 6,200 | 4,700 | 4,700
Big skate ¹⁶ | W | n/a | 745 | 745
| C | n/a | 1,749 | 1,749
| E | n/a | 341 | 341
| Total | 3,780 | 2,835 | 2,835
Longnose skate ¹⁷ | W | n/a | 104 | 104
| C | n/a | 1,894 | 1,894
| E | n/a | 538 | 538
| Total | 3,380 | 2,536 | 2,536
Other skates ¹⁸ | GW | 887 | 665 | 665
Sharks | GW | 6,521 | 4,891 | 4,891
Octopus | GW | 1,307 | 980 | 980
Total |  | 673,289 | 562,224 | 483,700
¹ Regulatory areas and districts are defined at § 679.2. (W = Western Gulf of Alaska; C = Central Gulf of Alaska; E = Eastern Gulf of Alaska; WYK = West Yakutat District; SEO = Southeast Outside District; GW = Gulf-wide).
² The total for the W/C/WYK Regulatory Areas pollock ABC is 157,687 mt. After deducting 2.5 percent (3,942 mt) of that ABC for the State's pollock GHL fishery, the remaining pollock ABC of 153,745 mt (for the W/C/WYK Regulatory Areas) is apportioned among four statistical areas (Areas 610, 620, 630, and 640). These apportionments are considered subarea ACLs, rather than ABCs, for specification and reapportionment purposes. The ACLs in Areas 610, 620, and 630 are further divided by season, as detailed in table 4 (final 2025 seasonal biomass distribution of pollock in the Western and Central Regulatory Areas, area apportionments, and seasonal allowances). In the West Yakutat (Area 640) and Southeast Outside (Area 650) Districts of the Eastern Regulatory Area, pollock is not divided into seasonal allowances.
³ The annual Pacific cod TAC is apportioned, after seasonal apportionment to the jig sector, as follows: (1) 63.84 percent to the A season and 36.16 percent to the B season and (2) 64.16 percent to the A season and 35.84 percent to the B season in the Western and Central Regulatory Areas of the GOA, respectively. Pacific cod TAC in the Eastern Regulatory Area of the GOA is allocated 90 percent to vessels harvesting Pacific cod for processing by the inshore component and 10 percent to vessels harvesting Pacific cod for processing by the offshore component. Table 6 lists the final 2025 Pacific cod seasonal apportionments and sector allocations.
⁴ The sablefish OFL and ABC are set Alaska-wide (55,317 mt and 47,350 mt, respectively), and the Alaska-wide totals are included in the total OFL and ABC in table 2. Additionally, sablefish TAC is allocated only to trawl gear for 2025. Table 8 lists the final 2025 allocation of sablefish TACs to trawl gear.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes, the 1 mt apportionment of ABC to the WYK District of the Eastern Gulf of Alaska has been included in the “other rockfish” species group.
⁹ “Shortraker rockfish” means Sebastes borealis.
¹⁰ “Dusky rockfish” means Sebastes variabilis.
¹¹ “Rougheye and blackspotted rockfish” mean Sebastes aleutianus (rougheye) and S. melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Thornyhead rockfish” means Sebastolobus species.
¹⁴ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, “other rockfish” also includes northern rockfish, S. polyspinis.
¹⁵ In 2024 and prior years, “other rockfish” in the Western and Central Regulatory Areas and in the West Yakutat District meant other rockfish and demersal shelf rockfish, and the “other rockfish” species group in the SEO District only included “other rockfish.” Starting with the 2024 stock assessment for the 2025 harvest specifications, the “other rockfish” species group will be specified GOA-wide (as one GOA-wide species group), and the demersal shelf rockfish species group will be specified for the Western and Central Regulatory Areas/West Yakutat District and for the SEO District (as two separate species groups).
¹⁶ “Big skate” means Beringraja binoculata.
¹⁷ “Longnose skate” means Raja rhina.
¹⁸ “Other skates” mean Bathyraja spp.

Apportionment of Reserves

Section 679.20(b)(2) requires NMFS to set aside 20 percent of each TAC for pollock, Pacific cod, flatfish, sharks, and octopuses in reserve for possible apportionment at a later date during the fishing year. For 2024 and 2025, NMFS proposed reapportionment of all the reserves in the proposed 2024 and 2025 harvest specifications published in the Federal Register on December 7, 2023 (88 FR 85184). NMFS did not receive any public comments on the proposed reapportionments. For the final 2024 and 2025 harvest specifications, NMFS reapportions, as proposed, all the reserves for pollock, Pacific cod, flatfish, sharks, and octopuses back to the original TAC limit from which the reserve was derived (§ 679.20(b)(3)). This is being done because NMFS expects, based on recent harvest patterns, that such reserves are not necessary or that the entire TAC for each of these species will be caught. The TACs listed in tables 1 and 2 reflect reapportionments of reserve amounts to the original TAC limit for these species and species groups, i.e., each final TAC for the above-mentioned species or species groups contains the full TAC recommended by the Council.

Apportionments of Pollock TAC Among Seasons and Regulatory Areas, and Allocations for Processing by Inshore and Offshore Components

In the GOA, pollock is apportioned by season and area and is further allocated for processing by inshore and offshore components. The pollock TACs in the Western and Central Regulatory Areas of the GOA are apportioned among Statistical Areas 610, 620, and 630. These apportionments are divided into two equal seasonal allowances of 50 percent to the A season (January 20 through May 31) and 50 percent to the B season (September 1 through November 1) (§§ 679.20(a)(5)(iv)(B) and 679.23(d)(2)).

Effective in 2021, regulatory changes revised the number of GOA pollock seasons to two seasons from four seasons (85 FR 38093, June 25, 2020). The GOA pollock stock assessment continues to use a four-season methodology to determine pollock distribution in the Western and Central Regulatory Areas of the GOA to maintain continuity in the historical pollock apportionment time-series. Pollock TACs in the Western and Central Regulatory Areas of the GOA are apportioned among Statistical Areas 610, 620, and 630 in proportion to the distribution of pollock biomass determined by the most recent NMFS surveys, pursuant to § 679.20(a)(5)(iv)(A). The pollock chapter of the 2023 SAFE report (see ADDRESSES) contains a comprehensive description of the apportionment and reasons for the minor changes from past apportionments. For purposes of specifying pollock TAC between two seasons for the Western and Central Regulatory Areas of the GOA, NMFS has summed the A and B season apportionments and the C and D season apportionments, using the four-season methodology, as calculated in the 2023 GOA pollock assessment. This yields the seasonal amounts specified for the A season and the B season, respectively.

Within any fishing year, the amount by which a pollock seasonal allowance is underharvested or overharvested may be added to, or subtracted from, the subsequent seasonal allowance for the Western and Central Regulatory Areas in a manner to be determined by the Regional Administrator (§ 679.20(a)(5)(iv)(B)). The rollover amount is limited to 20 percent of the subsequent seasonal TAC apportionment for the statistical area. Any unharvested pollock above the 20-percent limit could be further distributed to the other statistical areas, in proportion to the estimated biomass in the subsequent season in those statistical areas and in an amount no more than 20 percent of the seasonal TAC apportionment in those statistical areas (§ 679.20(a)(5)(iv)(B)). The pollock TACs in the WYK and the SEO Districts of 5,565 mt and 9,749 mt, respectively, in 2024, and 4,601 mt and 9,749 mt, respectively, in 2025, are not allocated by season.

Tables 3 and 4 list the final 2024 and 2025 seasonal biomass distribution of pollock in the Western and Central Regulatory Areas, area apportionments, and seasonal allowances. The amounts of pollock for processing by the inshore and offshore components are not shown. Section 679.20(a)(6)(i) requires the allocation of 100 percent of the pollock TAC in all GOA regulatory areas and all seasonal allowances to vessels catching pollock for processing by the inshore component after subtraction of pollock amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed by § 679.20(e) and (f). At this time, these incidental catch amounts of pollock are unknown and will be determined during the fishing year during the course of fishing activities by the offshore component.

Table 3—Final 2024 Distribution of Pollock in the Western and Central Regulatory Areas of the Gulf of Alaska; Area Apportionments; and Seasonal Allowances of Annual TAC
[Values are rounded to the nearest metric ton ¹]
Season ² | Shumigan (Area 610) | Chirikof (Area 620) | Kodiak (Area 630) | Total ³
A (January 20-May 31) | 5,422 | 70,918 | 13,863 | 90,203
B (September 1-November 1) | 33,460 | 20,019 | 36,724 | 90,203
Annual Total | 38,882 | 90,937 | 50,587 | 180,406
¹ Area apportionments and seasonal allowances may not total precisely due to rounding.
² As established by § 679.23(d)(2), directed fishing for pollock in the Western and Central Regulatory Areas is authorized only during the following two seasons: January 20 through May 31 and September 1 through November 1, respectively. The amounts of pollock for processing by the inshore and offshore components are not shown in this table.
³ The West Yakutat and Southeast Outside District pollock TACs are not allocated by season and are not included in the total pollock TACs shown in this table.

Table 4—Final 2025 Distribution of Pollock in the Western and Central Regulatory Areas of the Gulf of Alaska; Area Apportionments; and Seasonal Allowances of Annual TAC
[Values are rounded to the nearest metric ton ¹]
Season ² | Shumigan (Area 610) | Chirikof (Area 620) | Kodiak (Area 630) | Total ³
A (January 20-May 31) | 4,483 | 58,629 | 11,460 | 74,572
B (September 1-November 1) | 27,661 | 16,550 | 30,361 | 74,572
Annual Total | 32,144 | 75,179 | 41,821 | 149,144
¹ Area apportionments and seasonal allowances may not total precisely due to rounding.
² As established by § 679.23(d)(2), directed fishing for pollock in the Western and Central Regulatory Areas is authorized only during the following two seasons: January 20 through May 31 and September 1 through November 1, respectively. The amounts of pollock for processing by the inshore and offshore components are not shown in this table.
³ The West Yakutat and Southeast Outside District pollock TACs are not allocated by season and are not included in the total pollock TACs shown in this table.

Annual and Seasonal Apportionments of Pacific Cod TAC

Pursuant to § 679.20(a)(12)(i), NMFS seasonally allocates the 2024 and 2025 Pacific cod TACs in the Western and Central Regulatory Areas of the GOA among gear and operational sectors. In the Western and Central Regulatory Areas, a portion of the annual TAC is apportioned to the A season for hook-and-line, pot, and jig gear from January 1 through June 10, and for trawl gear from January 20 through June 10, and a portion of the annual TAC is apportioned to the B season for jig gear from June 10 through December 31, for hook-and-line and pot gear from September 1 through December 31, and for trawl gear from September 1 through November 1 (§§ 679.20(a)(12) and 679.23(d)(3)). NMFS also allocates the Pacific cod TACs annually between the inshore (90 percent) and offshore (10 percent) components in the Eastern Regulatory Area of the GOA (§ 679.20(a)(6)(ii)).

In the Central GOA, the Pacific cod TAC is apportioned seasonally first to vessels using jig gear, then among CVs less than 50 feet (15.2 meters (m)) in length overall using hook-and-line gear, then among CVs equal to or greater than 50 feet (15.2 m) in length overall using hook-and-line gear, then among catcher/processors (CPs) using hook-and-line gear, then among CVs using trawl gear, then among CPs using trawl gear, and then among vessels using pot gear (§ 679.20(a)(12)(i)(B)). In the Western GOA, the Pacific cod TAC is apportioned seasonally first to vessels using jig gear, then among CVs using hook-and-line gear, then among CPs using hook-and-line gear, then among CVs using trawl gear, then among CPs using trawl gear, and then among vessels using pot gear (§ 679.20(a)(12)(i)(A)). Excluding seasonal apportionments to the jig sector, NMFS seasonally apportions the remainder of the annual Pacific cod TACs in the Western GOA as 63.84 percent to the A season and 36.16 percent to the B season, and in the Central GOA as 64.16 percent to the A season and 35.84 percent to the B season.

Under § 679.20(a)(12)(ii), any overage or underage of the Pacific cod season allowance from the A season may be subtracted from, or added to, the subsequent B season allowance. In addition, any portion of the hook-and-line, trawl, pot, or jig sector allocations that is determined by NMFS as likely to go unharvested by a sector may be reallocated to other sectors for harvest during the remainder of the fishing year consistent with the reallocation priorities prescribed in regulation and the capability of a sector to harvest the remaining TAC.

Pursuant to § 679.20(a)(12)(i)(A) and (B), a portion of the annual Pacific cod TACs in the Western and Central GOA will be allocated to vessels with a Federal fisheries permit that use jig gear before the TACs are apportioned among other non-jig sectors. In accordance with the FMP, the annual jig sector allocations may increase to up to 6 percent of the annual Western and Central GOA Pacific cod TACs, depending on the annual performance of the jig sector (see table 1 in the final rule implementing Amendment 83 to the FMP for a detailed discussion of the jig sector allocation process (76 FR 74670, December 1, 2011)). Jig sector allocation increases are established for a minimum of 2 years. Jig sector allocation decreases are established for 1 year.

NMFS has evaluated the historical harvest performance of the jig sector in the Western and Central GOA and is establishing the 2024 and 2025 Pacific cod apportionments to this sector based on its historical harvest performance through 2023. NMFS did not evaluate the 2020 performance of the jig sectors in the Western and Central GOA because directed fishing was prohibited for all Pacific cod sectors in 2020 (84 FR 70438, December 23, 2019). Because of the closure, catch for the jig sectors could not reach 90 percent of the annual allocation that is required for a performance increase in the following year's allocation (87 FR 74102, December 2, 2022). For 2024 and 2025, NMFS allocates the jig sector 3.5 percent of the annual Pacific cod TAC in the Western GOA. The 2024 and 2025 allocations consist of a base allocation of 1.5 percent of the Western GOA Pacific cod TAC and performance increases of 2.0 percent. For 2024 and 2025, NMFS allocates the jig sector 2.0 percent of the annual Pacific cod TAC in the Central GOA. The 2024 and 2025 allocations consist of a base allocation of 1.0 percent of the Central GOA Pacific cod TAC and a performance increase of 1.0 percent. The 2025 allocations of the annual Pacific cod TACs in the Western and Central GOA to jig gear may change based on the harvest performance of the sector in 2024, which NMFS will evaluate in the 2025 and 2026 harvest specifications.

For 2024 and 2025, NMFS is apportioning the jig sector allocations for the Western and Central GOA between the A season (60 percent) and the B season (40 percent), pursuant to § 679.20(a)(12)(i). This is the same jig sector seasonal apportionment implemented in prior groundfish harvest specifications for the GOA and is consistent with Amendment 83 to the FMP (76 FR 44700, July 26, 2011).

Tables 5 and 6 list the seasonal apportionments and allocations of the 2024 and 2025 Pacific cod TACs.

Table 5—Final 2024 Seasonal Apportionments and Allocation of Pacific Cod Total Allowable Catch (TAC) Amounts in the GOA; Allocations in the Western GOA and Central GOA Sectors, and the Eastern GOA Inshore and Offshore Processing Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA:
Jig (3.5% of TAC) | 214 | n/a | 129 | n/a | 86
Hook-and-line CV | 83 | 0.70 | 41 | 0.70 | 41
Hook-and-line CP | 1,170 | 10.9 | 644 | 8.90 | 526
Trawl CV | 2,268 | 31.54 | 1,863 | 6.86 | 405
Trawl CP | 142 | 0.90 | 53 | 1.50 | 89
All Pot CV and Pot CP | 2,245 | 19.80 | 1,170 | 18.20 | 1,075
Total | 6,121 | 63.84 | 3,899 | 36.16 | 2,222
Central GOA:
Jig (2.0% of TAC) | 309 | n/a | 185 | n/a | 124
Hook-and-line <50 CV | 2,210 | 9.32 | 1,410 | 5.29 | 800
Hook-and-line ≥50 CV | 1,015 | 5.61 | 849 | 1.10 | 166
Hook-and-line CP | 772 | 4.11 | 622 | 1.00 | 151
Trawl CV ¹ | 6,293 | 25.29 | 3,828 | 16.29 | 2,465
Trawl CP | 635 | 2.00 | 303 | 2.19 | 332
All Pot CV and Pot CP | 4,208 | 17.83 | 2,698 | 9.98 | 1,510
Total | 15,442 | 64.16 | 9,894 | 35.84 | 5,548
Eastern GOA |  | Inshore (90% of Annual TAC) |  | Offshore (10% of Annual TAC)
| 2,203 | 1,983 |  | 220
¹ Trawl catcher vessels participating in Rockfish Program cooperatives receive 3.81 percent, or 588 mt, of the annual Central GOA TAC (see table 28c to 50 CFR part 679). This apportionment is deducted from the Trawl CV B season allowance (see table 12: Final 2024 Apportionments of Rockfish Secondary Species in the Central GOA to Catcher Vessel and Catcher/Processor Cooperatives).

Table 6—Final 2025 Seasonal Apportionments and Allocation of Pacific Cod Total Allowable Catch (TAC) Amounts in the GOA; Allocations in the Western GOA and Central GOA Sectors, and the Eastern GOA Inshore and Offshore Processing Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA:
Jig (3.5% of TAC) | 187 | N/A | 112 | N/A | 75
Hook-and-line CV | 72 | 0.70 | 36 | 0.70 | 36
Hook-and-line CP | 1,022 | 10.9 | 562 | 8.90 | 459
Trawl CV | 1,981 | 31.54 | 1,627 | 6.86 | 354
Trawl CP | 124 | 0.90 | 46 | 1.50 | 77
All Pot CV and Pot CP | 1,961 | 19.80 | 1,022 | 18.20 | 939
Total | 5,347 | 63.84 | 3,406 | 36.16 | 1,941
Central GOA:
Jig (2.0% of TAC) | 270 | N/A | 162 | N/A | 108
Hook-and-line <50 CV | 1,930 | 9.32 | 1,231 | 5.29 | 699
Hook-and-line ≥50 CV | 886 | 5.61 | 741 | 1.10 | 145
Hook-and-line CP | 675 | 4.11 | 543 | 1.00 | 132
Trawl CV ¹ | 5,496 | 25.29 | 3,343 | 16.29 | 2,153
Trawl CP | 555 | 2.00 | 265 | 2.19 | 290
All Pot CV and Pot CP | 3,675 | 17.83 | 2,356 | 9.98 | 1,318
Total | 13,486 | 64.16 | 8,641 | 35.84 | 4,845
Eastern GOA |  | Inshore (90% of Annual TAC) |  | Offshore (10% of Annual TAC)
| 1,924 | 1,731 |  | 192
¹ Trawl catcher vessels participating in Rockfish Program cooperatives receive 3.81 percent, or 514 mt, of the annual Central GOA TAC (see table 28c to 50 CFR part 679). This apportionment is deducted from the Trawl CV B season allowance (see table 13: Final 2025 Apportionments of Rockfish Secondary Species in the Central GOA to Catcher Vessel and Catcher/Processor Cooperatives).

Allocations of the Sablefish TAC Amounts to Vessels Using Fixed and Trawl Gear

Section 679.20(a)(4)(i) and (ii) require allocations of sablefish TACs for each of the regulatory areas and districts to fixed and trawl gear. In the Western and Central Regulatory Areas, 80 percent of each TAC is allocated to fixed gear, and 20 percent of each TAC is allocated to trawl gear. In the Eastern Regulatory Area, 95 percent of the TAC is allocated to fixed gear, and 5 percent is allocated to trawl gear. The trawl gear allocation in the Eastern Regulatory Area may only be used to support incidental catch of sablefish using trawl gear while directed fishing for other target species (§ 679.20(a)(4)(i)).

In recognition of the prohibition against trawl gear in the SEO District of the Eastern Regulatory Area, the Council recommended, and NMFS approves, specifying for incidental catch the allocation of 5 percent of the combined Eastern Regulatory Area sablefish TAC to trawl gear in the WYK District of the Eastern Regulatory Area. The remainder of the WYK District sablefish TAC is allocated to vessels using fixed gear. NMFS allocates 100 percent of the sablefish TAC in the SEO District to vessels using fixed gear. This results in 2024 allocations of 412 mt to trawl gear and 2,514 mt to fixed gear in the WYK District, a 2024 allocation of 5,320 mt to fixed gear in the SEO District, and a 2025 allocation of 414 mt to trawl gear in the WYK District. Table 7 lists the allocations of the 2024 sablefish TACs to fixed and trawl gear. Table 8 lists the allocations of the 2025 sablefish TACs to trawl gear.

The Council recommended that a trawl sablefish TAC be established for 2 years so that retention of incidental catch of sablefish by trawl gear could commence in January in the second year of the groundfish harvest specifications. Both the 2024 and 2025 trawl allocations are specified in these final harvest specifications in tables 7 and 8, respectively.

The Council also recommended that the fixed gear sablefish TAC be established annually to ensure that this Individual Fishing Quota (IFQ) fishery is conducted concurrently with the halibut IFQ fishery and is based on the most recent survey information. Since there is an annual assessment for sablefish and since the final harvest specifications are expected to be published before the IFQ season begins in March 2024, NMFS specifies the fixed gear sablefish TAC annually, rather than for 2 years, to ensure that the sablefish IFQ fishery is conducted concurrently with the halibut IFQ fishery. Concurrent sablefish and halibut IFQ fisheries reduce the potential for discards of halibut and sablefish in those fisheries. Accordingly, table 7 lists the 2024 fixed gear allocations, and the 2025 fixed gear allocations will be specified in the 2025 and 2026 harvest specifications.

With the exception of the trawl gear allocations that are provided to the Rockfish Program (see table 28c to 50 CFR part 679), directed fishing for sablefish with trawl gear in the GOA is closed during the fishing year. Also, fishing for groundfish with trawl gear is prohibited prior to January 20 (§ 679.23(c)). Therefore, it is not likely that the sablefish allocation to trawl gear will be reached before the effective date of these final 2024 and 2025 harvest specifications.

Table 7—Final 2024 Sablefish TAC Amounts in the Gulf of Alaska and Allocations to Fixed and Trawl Gear
[Values are rounded to the nearest metric ton]
Area/district | TAC | Fixed gear allocation | Trawl gear allocation
Western | 4,699 | 3,759 | 940
Central ¹ | 9,651 | 7,721 | 1,930
West Yakutat ² | 2,926 | 2,514 | 412
Southeast Outside | 5,320 | 5,320 | 0
Total | 22,596 | 19,313 | 3,283
¹ The trawl allocation of sablefish in the Central Regulatory Area is further apportioned to the Rockfish Program cooperatives (993 mt). See table 28c to 50 CFR part 679 and table 12: Final 2024 Apportionments of Rockfish Secondary Species in the Central GOA to Catcher Vessel and Catcher/Processor Cooperatives. This results in 937 mt being available for the non-Rockfish Program trawl fisheries.
² The trawl allocation is based on allocating 5 percent of the combined Eastern Regulatory Area (West Yakutat and Southeast Outside Districts) sablefish TAC as incidental catch to trawl gear in the West Yakutat District.

Table 8—Final 2025 Sablefish TAC Amounts in the Gulf of Alaska and Allocations to Trawl Gear ¹
[Values are rounded to the nearest metric ton]
Area/district | TAC | Fixed gear allocation | Trawl gear allocation
Western | 4,719 | n/a | 944
Central ² | 9,693 | n/a | 1,939
West Yakutat ³ | 2,940 | n/a | 414
Southeast Outside | 5,343 | n/a | 0
Total | 22,695 | 0 | 3,297
¹ The Council recommended that the final 2025 harvest specifications for the fixed gear sablefish Individual Fishing Quota fisheries not be specified in the final 2024 and 2025 harvest specifications. The final 2025 harvest specifications for fixed gear will be specified in the 2025 and 2026 harvest specifications.
² The trawl allocation of sablefish in the Central Regulatory Area is further apportioned to the Rockfish Program cooperatives (997 mt). See table 28c to 50 CFR part 679 and table 13: Final 2025 Apportionments of Rockfish Secondary Species in the Central GOA to Catcher Vessel and Catcher/Processor Cooperatives. This results in 942 mt being available for the non-Rockfish Program trawl fisheries.
³ The trawl allocation is based on allocating 5 percent of the combined Eastern Regulatory Area (West Yakutat and Southeast Outside Districts) sablefish TAC as incidental catch to trawl gear in the West Yakutat District.

Allocations, Apportionments, and Sideboard Limits for the Rockfish Program

These final 2024 and 2025 harvest specifications for the GOA include the fishery cooperative allocations and sideboard limitations established by the Rockfish Program. Rockfish Program participants are primarily trawl CVs and trawl CPs, with limited participation by vessels using longline gear. The Rockfish Program assigns quota share and cooperative quota to participants for primary species (Pacific ocean perch, northern rockfish, and dusky rockfish) and secondary species (Pacific cod, rougheye and blackspotted rockfish, sablefish, shortraker rockfish, and thornyhead rockfish), allows a participant holding a LLP license with rockfish quota share to form a rockfish cooperative with other persons, and allows holders of CP LLP licenses to opt out of the fishery. The Rockfish Program also has an entry-level fishery for rockfish primary species for vessels using longline gear. Longline gear includes hook-and-line, jig, troll, and handline gear.

Under the Rockfish Program, rockfish primary species in the Central GOA are allocated to participants after deducting for incidental catch needs in other directed groundfish fisheries (§ 679.81(a)(2)). Participants in the Rockfish Program also receive a portion of the Central GOA TAC of specific secondary species. In addition to groundfish species, the Rockfish Program assigns a portion of the halibut PSC limit (191.4 mt) from the third season deep-water species fishery allowance for the GOA trawl fisheries to Rockfish Program participants (§ 679.81(d) and table 28d to 50 CFR part 679). The Rockfish Program also establishes sideboard limits to restrict the ability of harvesters operating under the Rockfish Program to increase their participation in other, non-Rockfish Program fisheries. These restrictions and halibut PSC limits are discussed in the Rockfish Program Groundfish Sideboard and Halibut PSC Limitations section of this rule.

Section 679.81(a)(2)(ii) and table 28e to 50 CFR part 679 require allocations of 5 mt of Pacific ocean perch, 5 mt of northern rockfish, and 50 mt of dusky rockfish to the entry-level longline fishery in 2024 and 2025. The allocations for the entry-level longline fishery may increase incrementally each year if the catch in the previous year exceeds 90 percent of the allocation of a species. The incremental increase in the allocation would continue each year until it reaches the maximum percent of the TAC assigned to the Rockfish Program for that species. In 2023, the catch of Pacific ocean perch, northern rockfish, and dusky rockfish did not attain the 90 percent threshold, and the final allocations for 2024 therefore remain the same as the 2023 allocations. The remainder of the TACs for the rockfish primary species are allocated to the CV and CP cooperatives (§ 679.81(a)(2)(iii)). Table 9 lists the allocations of the 2024 and 2025 TACs for each rockfish primary species to the entry-level longline fishery, the potential incremental increases for future years, and the maximum percent of the TACs assigned to the Rockfish Program that may be allocated to the rockfish entry-level longline fishery.

Table 9—Final 2024 and Initial 2025 Allocations of Rockfish Primary Species to the Entry Level Longline Fishery in the Central Gulf of Alaska
Rockfish primary species | 2024 and 2025 allocations (metric tons) | Incremental increase in 2025 if >90% of 2024 allocation is harvested (metric tons) | Up to maximum percent of TAC (%)
Pacific ocean perch | 5 | 5 | 1
Northern rockfish | 5 | 5 | 2
Dusky rockfish | 50 | 20 | 5

Section 679.81 requires allocations of rockfish primary species among various sectors of the Rockfish Program. Tables 10 and 11 list the final 2024 and 2025 allocations of rockfish primary species in the Central GOA to the entry-level longline fishery, and rockfish CV and CP cooperatives in the Rockfish Program. NMFS also is setting aside incidental catch amounts (ICAs) for other directed fisheries in the Central GOA of 3,500 mt of Pacific ocean perch, 300 mt of northern rockfish, and 250 mt of dusky rockfish. These amounts are based on recent average incidental catches of these species in the Central GOA by other groundfish fisheries.

Allocations among vessels belonging to CV or CP cooperatives are not included in these final harvest specifications. Rockfish Program applications for CV cooperatives and CP cooperatives are not due to NMFS until March 1 of each calendar year; therefore, NMFS cannot calculate 2024 and 2025 allocations in conjunction with these final harvest specifications (§ 679.81(f)). After receiving the Rockfish Program applications, NMFS will calculate the 2024 allocations for CV and CP cooperatives, as set forth in § 679.81(b), (c), and (e). NMFS will announce the 2024 allocations after March 1.

Table 10—Final 2024 Allocations of Rockfish Primary Species in the Central Gulf of Alaska to the Entry Level Longline Fishery and Rockfish Cooperatives in the Rockfish Program
[Values are rounded to the nearest metric ton]
Rockfish primary species | Central GOA annual TAC | Incidental catch allowance | TAC minus ICA | Allocation to the entry level longline ¹ fishery | Allocation to the rockfish cooperatives ²
Pacific ocean perch | 28,757 | 3,500 | 25,257 | 5 | 25,252
Northern rockfish | 2,280 | 300 | 1,980 | 5 | 1,975
Dusky rockfish | 7,365 | 250 | 7,115 | 50 | 7,065
Total | 38,402 | 4,050 | 34,352 | 60 | 34,292
¹ Longline gear includes hook-and-line, jig, troll, and handline gear (§ 679.2).
² Rockfish cooperatives include vessels in CV and CP cooperatives (§ 679.81).

Table 11—Final 2025 Allocations of Rockfish Primary Species in the Central Gulf of Alaska to the Entry Level Longline Fishery and Rockfish Cooperatives in the Rockfish Program
[Values are rounded to the nearest metric ton]
Rockfish primary species | Central GOA annual TAC | Incidental catch allowance | TAC minus ICA | Allocation to the entry level longline ¹ fishery | Allocation to the rockfish cooperatives ²
Pacific ocean perch | 27,768 | 3,500 | 24,268 | 5 | 24,263
Northern rockfish | 2,200 | 300 | 1,900 | 5 | 1,895
Dusky rockfish | 6,979 | 250 | 6,729 | 50 | 6,679
Total | 36,947 | 4,050 | 32,837 | 60 | 32,837
¹ Longline gear includes hook-and-line, jig, troll, and handline gear (§ 679.2).
² Rockfish cooperatives include vessels in CV and CP cooperatives (§ 679.81).

Section 679.81(c) and table 28c to 50 CFR part 679 require allocations of rockfish secondary species to CV and CP cooperatives in the Central GOA. CV cooperatives receive allocations of Pacific cod, sablefish from the trawl gear allocation, and thornyhead rockfish. CP cooperatives receive allocations of sablefish from the trawl gear allocation, rougheye and blackspotted rockfish, shortraker rockfish, and thornyhead rockfish. Tables 12 and 13 list the apportionments of the 2024 and 2025 TACs of rockfish secondary species in the Central GOA to CV and CP cooperatives.

Table 12—Final 2024 Apportionments of Rockfish Secondary Species in the Central GOA to Catcher Vessel and Catcher/Processor Cooperatives
[Values are rounded to the nearest metric ton]
Rockfish secondary species | Central GOA annual TAC | Catcher vessel cooperatives: Percentage of TAC | Catcher vessel cooperatives: Apportionment (mt) | Catcher/processor cooperatives: Percentage of TAC | Catcher/processor cooperatives: Apportionment (mt)
Pacific cod | 15,442 | 3.81 | 588 | 0.00 | 0
Sablefish | 9,651 | 6.78 | 654 | 3.51 | 339
Shortraker rockfish | 189 | 0.00 | 0 | 40.00 | 76
Rougheye/blackspotted rockfish | 315 | 0.00 | 0 | 58.87 | 185
Thornyhead rockfish | 693 | 7.84 | 54 | 26.50 | 184

Table 13—Final 2025 Apportionments of Rockfish Secondary Species in the Central GOA to Catcher Vessel and Catcher/Processor Cooperatives
[Values are rounded to the nearest metric ton]
Rockfish secondary species | Central GOA annual TAC | Catcher vessel cooperatives: Percentage of TAC | Catcher vessel cooperatives: Apportionment (mt) | Catcher/processor cooperatives: Percentage of TAC | Catcher/processor cooperatives: Apportionment (mt)
Pacific cod | 13,486 | 3.81 | 514 | 0.00 | 0
Sablefish | 9,693 | 6.78 | 657 | 3.51 | 340
Shortraker rockfish | 189 | 0.00 | n/a | 40.00 | 76
Rougheye/blackspotted rockfish | 317 | 0.00 | n/a | 58.87 | 187
Thornyhead rockfish | 693 | 7.84 | 54 | 26.50 | 184

Halibut PSC Limits

Section 679.21(d) establishes annual halibut PSC limit apportionments to trawl gear and hook-and-line gear and authorizes the establishment of apportionments for pot gear. In December 2023 the Council recommended and NMFS approves halibut PSC limits of 1,705 mt for trawl gear, 256 mt for hook-and-line gear, and 9 mt for the demersal shelf rockfish (DSR) rockfish fishery in the SEO District for both 2024 and 2025, consistent with § 679.21.

The DSR fishery in the SEO District is defined at § 679.21(d)(2)(ii)(A). This fishery is apportioned 9 mt of the halibut PSC limit in recognition of its small-scale harvests of groundfish (§ 679.21(d)(2)(i)(A)). The separate halibut PSC limit for the DSR fishery is intended to prevent that fishery from being impacted from the halibut PSC incurred by other GOA fisheries. NMFS estimates low halibut bycatch in the DSR fishery because: (1) the duration of the DSR fishery and the gear soak times are short; (2) the DSR fishery occurs in the winter when there is less overlap in the distribution of DSR and halibut; and (3) the directed commercial DSR fishery has a low DSR TAC. The State of Alaska sets the commercial GHL for the DSR fishery after deducting estimates of DSR incidental catch in all fisheries (including halibut and subsistence) and allocation to the sport DSR fishery. In 2023, the commercial GHL fishery for DSR was closed due to concerns about declining DSR biomass.

The FMP authorizes the Council and NMFS to exempt specific gear from the halibut PSC limits. NMFS, after consultation with the Council, exempts pot gear, the sablefish IFQ fixed gear fishery categories, and jig gear from the non-trawl halibut PSC limit for 2024 and 2025. The Council recommended, and NMFS approves, these exemptions because: (1) the pot gear fisheries have low annual halibut bycatch mortality; (2) IFQ program regulations prohibit discard of halibut if any halibut IFQ permit holder on board a catcher vessel holds unused halibut IFQ for that vessel category and the IFQ regulatory area in which the vessel is operating (§ 679.7(f)(11)); (3) some sablefish IFQ fishermen hold halibut IFQ permits and are therefore required to retain the halibut they catch while fishing sablefish IFQ; and (4) NMFS estimates negligible halibut mortality for the jig gear fisheries given the small amount of groundfish harvested by jig gear, the selective nature of jig gear, and the high survival rates of halibut caught and released with jig gear.

The best information available on estimated halibut bycatch consists of data collected by fisheries observers during 2023. The estimated halibut bycatch mortality through December 31, 2023 is 289 mt for trawl gear and 37 mt for hook-and-line gear for a total halibut mortality of 326 mt. The estimated halibut bycatch mortality was calculated using groundfish and halibut catch data from the NMFS Alaska Region's catch accounting system. This accounting system contains historical and recent catch information compiled from each Alaska groundfish fishery.

Section 679.21(d)(4)(i) and (ii) authorize NMFS to seasonally apportion the halibut PSC limits after consultation with the Council. The FMP and regulations require that the Council and NMFS consider the following information in seasonally apportioning halibut PSC limits: (1) seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry. The Council considered information from the 2023 SAFE report, NMFS catch data, State of Alaska catch data, International Pacific Halibut Commission (IPHC) stock assessment and mortality data, and public testimony when apportioning the halibut PSC limits. NMFS concurs with the Council's recommendations listed in table 14, which shows the final 2024 and 2025 Pacific halibut PSC limits, allowances, and apportionments.

Section 679.21(d)(4)(iii) and (iv) specify that any unused amounts, or overages, of a seasonal apportionment of a halibut PSC limit will be added to, or deducted from, the next respective seasonal apportionment within the fishing year.

Table 14—Final 2024 and 2025 Pacific Halibut Prohibited Species Catch (PSC) Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 30.5 | 520 | January 1-June 10 | 86 | 220 | January 1-December 31 | 9
April 1-July 1 | 20.0 | 341 | June 10-September 1 | 2 | 5 |  |
July 1-August 1 | 27.0 | 460 | September 1-December 31 | 12 | 31 |  |
August 1-October 1 | 7.5 | 128 |  |  |  |  |
October 1-December 31 | 15.0 | 256 |  |  |  |  |
Total |  | 1,705 |  |  | 256 |  | 9
¹ The Pacific halibut prohibited species catch (PSC) limit for hook-and-line gear is assigned to the DSR fishery in the SEO District and to the hook-and-line fisheries other than the DSR fishery. The fixed gear sablefish IFQ fishery is exempt from halibut PSC limits, as are pot and jig gear for all groundfish fisheries.

Section 679.21(d)(3)(ii) authorizes further apportionment of the trawl halibut PSC limit to trawl fishery categories listed in § 679.21(d)(3)(iii). The annual apportionments are based on each category's proportional share of the anticipated halibut bycatch mortality during the fishing year and optimization of the total amount of groundfish harvest under the halibut PSC limit. The fishery categories for the trawl halibut PSC limits are: (1) a deep-water species fishery, composed of sablefish, rockfish, deep-water flatfish, rex sole, and arrowtooth flounder; and (2) a shallow-water species fishery, composed of pollock, Pacific cod, shallow-water flatfish, flathead sole, Atka mackerel, and “other species” (sharks and octopuses) (§ 679.21(d)(3)(iii)). Halibut mortality incurred while directed fishing for skates with trawl gear accrues towards the shallow-water species fishery halibut PSC limit (69 FR 26320, May 12, 2004).

NMFS will combine available trawl halibut PSC limit apportionments during a portion of the second season deep-water and shallow-water species fisheries for use in either fishery from May 15 through June 30 (§ 679.21(d)(4)(iii)(D)). This is intended to maintain groundfish harvest while minimizing halibut bycatch by these sectors to the extent practicable. This provides the deep-water and shallow-water species trawl fisheries additional flexibility and the incentive to participate in fisheries at times of the year that may have lower halibut PSC rates relative to other times of the year.

Table 15 lists the final 2024 and 2025 apportionments of trawl halibut PSC limits between the trawl gear deep-water and shallow-water species fishery categories.

Table 28d to 50 CFR part 679 specifies the amount of the trawl halibut PSC limit that is assigned to the CV and CP sectors that are participating in the Rockfish Program. This includes 117.3 mt of halibut PSC limit to the CV sector and 74.1 mt of halibut PSC limit to the CP sector. These amounts are assigned from the trawl deep-water species fishery's halibut PSC third seasonal apportionment. After the combined CV and CP halibut PSC limit allocation of 191.4 mt to the Rockfish Program, 148.6 mt remains for the trawl deep-water species fishery's halibut PSC third seasonal apportionment.

Section 679.21(d)(4)(iii)(B) limits the amount of the halibut PSC limit assigned to Rockfish Program participants that could be re-apportioned to the last seasonal apportionment for the general GOA trawl fisheries during the current fishing year to no more than 55 percent of the unused annual halibut PSC limit apportioned to Rockfish Program participants. The remainder of the unused Rockfish Program halibut PSC limit is unavailable for use by any person for the remainder of the fishing year (§ 679.21(d)(4)(iii)(C)).

Table 15—Final 2024 and 2025 Apportionment of Pacific Halibut Prohibited Species Catch Limits Between the Trawl Gear Deep-Water Species Fishery and the Shallow-Water Species Fishery Categories
[Values are in metric tons]
Season | Shallow-water | Deep-water ¹ | Total
January 20-April 1 | 385 | 135 | 520
April 1-July 1 | 85 | 256 | 341
July 1-August 1 | 120 | 340 | 460
August 1-October 1 | 53 | 75 | 128
Subtotal January 20-October 1 | 643 | 806 | 1,449
October 1-December 31 ² |  |  | 256
Total |  |  | 1,705
¹ Vessels participating in cooperatives in the Central GOA Rockfish Program will receive 191.4 mt of the third season (July 1 through August 1) deep-water species fishery halibut PSC apportionment (see table 28d to 50 CFR part 679.
² There is no apportionment between trawl shallow-water and deep-water species fishery categories during the fifth season (October 1 through December 31).

Section 679.21(d)(2)(i)(B) requires that the “other hook-and-line fishery” halibut PSC limit apportionment to vessels using hook-and-line gear must be apportioned between CVs and CPs in accordance with § 679.21(d)(2)(iii) in conjunction with these harvest specifications. The halibut PSC apportionment is based on the Western and Central GOA Pacific cod allocations, which vary annually based on the proportion of the Pacific cod biomass between the Western, Central, and Eastern GOA. Updated information in the final 2023 SAFE report describes this distributional calculation, which apportions ABC among GOA regulatory areas on the basis of the three most recent stock surveys. For 2024 and 2025, the distribution of the total GOA Pacific cod ABC is 27.1 percent to the Western GOA, 63.8 percent to the Central GOA, and 9.1 percent to the Eastern GOA. Therefore, the calculations made in accordance with § 679.21(d)(2)(iii) incorporate the most recent information on GOA Pacific cod distribution and allocations with respect to establishing the annual halibut PSC limits for the CV and CP hook-and-line sectors of the “other hook-and-line fishery.” Additionally, the annual halibut PSC limits for both the CV and CP sectors of the “other hook-and-line fishery” are divided into three seasonal apportionments, using seasonal percentages of 86 percent, 2 percent, and 12 percent.

For 2024 and 2025, NMFS apportions halibut PSC limits of 149 mt and 107 mt to the hook-and-line CV and hook-and-line CP sectors, respectively. Table 16 lists the final 2024 and 2025 apportionments of halibut PSC limits between the hook-and-line CV and the hook-and-line CP sectors of the “other hook-and-line fishery.”

No later than November 1 of each year, NMFS will calculate the projected unused amount of halibut PSC limit by either of the CV or CP hook-and-line sectors that comprise the two sectors of the “other hook-and-line fishery” for the remainder of the year. The projected unused amount of halibut PSC limit is made available to the other sector for the remainder of that fishing year (§ 679.21(d)(2)(iii)(C)), if NMFS determines that an additional amount of halibut PSC is necessary for that sector to continue its directed fishing operations.

Table 16—Final 2024 and 2025 Apportionments of the “Other Hook-and-Line Fishery” Annual Halibut Prohibited Species Catch Allowance Between the Hook-and-Line Gear Catcher Vessel and Catcher/Processor Sectors
[Values are in metric tons]
“Other than DSR” allowance | Hook-and-line sector | Sector annual amount | Season | Seasonal percentage | Sector seasonal amount
256 | Catcher Vessel | 149 | January 1-June 10 | 86 | 128
|  |  | June 10-September 1 | 2 | 3
|  |  | September 1-December 31 | 12 | 18
| Catcher/Processor | 107 | January 1-June 10 | 86 | 92
|  |  | June 10-September 1 | 2 | 2
|  |  | September 1-December 31 | 12 | 13

Estimates of Halibut Biomass and Stock Condition

The IPHC annually assesses the abundance and potential yield of the Pacific halibut stock using all available data from the commercial and sport fisheries, other removals, and scientific surveys. Additional information on the Pacific halibut stock assessment may be found in the IPHC's 2023 Pacific halibut stock assessment (December 2023), available on the IPHC website at https://www.iphc.int. The IPHC considered the 2023 Pacific halibut stock assessment at its January 2024 annual meeting when it set the 2024 commercial halibut fishery catch limits.

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observed estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual GOA stock assessment process. The DMR methodology and findings are included as an appendix to the annual GOA groundfish SAFE report.

In 2016, the DMR estimation methodology underwent revisions per the Council's directive. An interagency halibut working group (IPHC, Council, and NMFS staff) developed improved estimation methods that have undergone review by the GOA Plan Team, SSC, and the Council. A summary of the revised methodology is contained in the GOA proposed 2017 and 2018 harvest specifications (81 FR 87881, December 6, 2016), and the comprehensive discussion of the working group's statistical methodology is available from the Council (see ADDRESSES). The DMR working group's revised methodology is intended to improve estimation accuracy, transparency, and transferability in the methodology used for calculating DMRs. The working group will continue to consider improvements to the methodology used to calculate halibut mortality, including potential changes to the reference period (the period of data used for calculating the DMRs). The new methodology continues to ensure that NMFS is using DMRs that accurately reflect halibut mortality, which will inform the sectors of their estimated halibut mortality and allow sectors to respond with methods that could reduce mortality and, eventually, the DMR for that sector.

At the December 2023 meeting, the SSC, AP, and Council concurred with the revised DMR estimation methodology, and NMFS adopts for 2024 and 2025 the DMRs calculated under the revised methodology, which uses an updated 2-year and 4-year reference period depending on data availability. The final 2024 and 2025 DMRs in this rule are unchanged from the DMRs in the proposed 2024 and 2025 harvest specifications (88 FR 85184, December 7, 2023). Table 17 lists these final 2024 and 2025 DMRs.

Table 17—Final 2024 and 2025 Halibut Discard Mortality Rates for Vessels Fishing in the Gulf of Alaska
[Values are percent of halibut assumed to be dead]
Gear | Sector | Groundfish fishery | Halibut discard mortality rate (percent)
Pelagic trawl | Catcher vessel | All | 100
| Catcher/processor | All | 100
Non-pelagic trawl | Catcher vessel | Rockfish Program | 56
| Catcher vessel | All others | 69
| Mothership and catcher/processor | All | 83
Hook-and-line | Catcher/processor | All | 11
| Catcher vessel | All | 10
Pot | Catcher vessel and catcher/processor | All | 26

Chinook Salmon Prohibited Species Catch Limits

There are Chinook salmon PSC limits for the directed pollock trawl fishery in the Western and Central GOA. NMFS is required to close the directed pollock fishery in the Western and Central Regulatory Areas of the GOA if the applicable Chinook salmon PSC limit in that regulatory area will be reached (§ 679.21(h)(8)). The annual Chinook salmon PSC limits in the directed pollock fishery of 6,684 salmon in the Western GOA and 18,316 salmon in the Central GOA are set at § 679.21(h)(2).

There is also an established initial annual PSC limit of 7,500 Chinook salmon for the trawl non-pollock groundfish fisheries in the Western and Central GOA. This limit is apportioned among the 3 sectors that conduct directed fishing for groundfish species other than pollock: 3,600 Chinook salmon to trawl CPs; 1,200 Chinook salmon to trawl CVs participating in the Rockfish Program; and 2,700 Chinook salmon to trawl CVs not participating in the Rockfish Program (§ 679.21(h)(4)). NMFS will monitor the Chinook salmon PSC in the trawl non-pollock groundfish fisheries and close an applicable sector if it will reach its Chinook salmon PSC limit.

The Chinook salmon PSC limit for two sectors, trawl CPs and trawl CVs not participating in the Rockfish Program, may be increased in subsequent years based on the performance of these two sectors and their ability to minimize their use of their respective Chinook salmon PSC limits during a calendar year. If either or both of these 2 sectors limited its use of Chinook salmon PSC to the specified threshold amount (3,120 for trawl CPs and 2,340 for Non-Rockfish Program trawl CVs), that sector will receive an incremental increase to its Chinook salmon PSC limit (§ 679.21(h)(4)). In 2023, the trawl CP sector did not exceed 3,120 Chinook salmon PSC; therefore, the 2024 trawl CP sector Chinook salmon PSC limit will be 4,080 Chinook salmon. In 2023, the Non-Rockfish Program trawl CV sector did not exceed 2,340 Chinook salmon PSC; therefore, the 2024 Non-Rockfish Program trawl CV sector Chinook salmon PSC limit will be 3,060 Chinook salmon.

American Fisheries Act (AFA) Catcher/Processor and Catcher Vessel Groundfish Harvest Limits

Section 679.64 establishes groundfish harvesting and processing sideboard limitations on AFA CPs and CVs in the GOA. These sideboard limits are necessary to protect the interests of fishermen and processors who do not directly benefit from the AFA as compared to those fishermen and processors who receive exclusive harvesting and processing privileges under the AFA. Section 679.7(k)(1)(ii) prohibits listed AFA CPs and CPs designated on a listed AFA CP permit from harvesting any species of groundfish in the GOA. Additionally, § 679.7(k)(1)(iv) prohibits listed AFA CPs and CPs designated on a listed AFA CP permit from processing any pollock harvested in a directed pollock fishery in the GOA and any groundfish harvested in Statistical Area 630 of the GOA.

AFA CVs that are less than 125 feet (38.1 meters) length overall, have annual landings of pollock in the Bering Sea and Aleutian Islands of less than 5,100 mt, and have made at least 40 landings of GOA groundfish from 1995 through 1997 are exempt from GOA CV groundfish sideboard limits (§ 679.64(b)(2)(ii)). Sideboard limits for non-exempt AFA CVs in the GOA are based on their traditional harvest levels of TAC in groundfish fisheries covered by the FMP. Section 679.64(b)(3)(iv) establishes the CV groundfish sideboard limits in the GOA based on the aggregate retained catch by non-exempt AFA CVs of each sideboard species from 2009 through 2019 divided by the TAC for that species available to catcher vessels from 2009 through 2019. Under the PCTC Program, NMFS modified the calculation of the sideboard ratios for non-exempt AFA CVs, using the qualifying years of 2009 through 2019 (88 FR 53704, August 8, 2023). Previously, sideboard limits were based on the ratio of catch to the TAC during the years 1995 through 1997.

Non-exempt AFA CVs are prohibited in regulation from directed fishing for specific groundfish species or species groups subject to sideboard limits (§ 679.20(d)(1)(iv)(D) and Table 56 to 50 CFR part 679) (84 FR 2723, February 8, 2019). Under the PCTC Program, NMFS also promulgated regulations to prohibit non-exempt AFA CVs from directed fishing for additional groundfish species or species groups subject to sideboard limits (88 FR 53704, August 8, 2023). All of these prohibitions are found in the revised Table 56 to 50 CFR part 679. Sideboard limits for species or species groups not listed in Table 56 continue to be calculated and included in the GOA annual harvest specifications.

Tables 18 and 19 list the final 2024 and 2025 groundfish sideboard limits for non-exempt AFA CVs. NMFS will deduct all targeted or incidental catch of sideboard species made by non-exempt AFA CVs from the sideboard limits listed in tables 18 and 19.

Table 18—Final 2024 GOA Non-Exempt American Fisheries Act Catcher Vessel (CV) Groundfish Sideboard Limits
[Values are rounded to the nearest metric ton]
Species | Apportionments by season/gear | Area/component | Ratio of 2009-2019 non-exempt AFA CV retained catch to 2009-2019 TAC | Final 2024 TACs ³ | Final 2024 non-exempt AFA CV sideboard limit
Pollock | A Season: January 20-May 31 | Shumagin (610) Chirikof (620) Kodiak (630) | 0.057 0.064 0.091 | 5,422 70,918 13,862 | 309 4,539 1,261
| B Season: September 1-November 1 | Shumagin (610) Chirikof (620) Kodiak (630) | 0.057 0.064 0.091 | 33,460 20,019 36,725 | 1,907 1,281 3,342
| Annual | WYK (640) | 0.026 | 5,565 | 145
Pacific cod | A Season: ¹ January 1-June 10 | W C | 0.009 0.011 | 3,899 9,894 | 35 109
| B Season: ² September 1-December 31 | W C | 0.009 0.011 | 2,222 5,548 | 20 61
Flatfish, shallow-water | Annual | C | 0.011 | 27,783 | 306
Rex sole | Annual | C | 0.014 | 13,639 | 191
Arrowtooth flounder | Annual | C | 0.011 | 64,871 | 714
Flathead sole | Annual | C | 0.007 | 21,307 | 149
¹ The Pacific cod A season for trawl gear does not open until January 20.
² The Pacific cod B season for trawl gear closes November 1.
³ The Western and Central GOA and WYK District area apportionments of pollock are considered ACLs.

Table 19—Final 2025 GOA Non-Exempt American Fisheries Act Catcher Vessel (CV) Groundfish Sideboard Limits
[Values are rounded to the nearest metric ton]
Species | Apportionments by season/gear | Area/component | Ratio of 2009-2019 non-exempt AFA CV retained catch to 2009-2019 TAC | Final 2025 TAC ³ | Final 2025 non-exempt AFA CV sideboard limit
Pollock | A Season: January 20-May 31 | Shumagin (610) Chirikof (620) Kodiak (630) | 0.057 0.064 0.091 | 4,483 58,629 11,460 | 256 3,752 1,043
| B Season: September 1-November 1 | Shumagin (610) Chirikof (620) Kodiak (630) | 0.057 0.064 0.091 | 27,661 16,550 30,361 | 1,577 1,059 2,763
| Annual | WYK (640) | 0.026 | 4,601 | 120
Pacific cod | A Season: ¹ January 1-June 10 | W C | 0.009 0.011 | 3,406 8,641 | 31 95
| B Season: ² September 1-December 31 | W C | 0.009 0.011 | 1,941 4,845 | 17 53
Flatfish, shallow-water | Annual | C | 0.011 | 28,311 | 311
Rex sole | Annual | C | 0.014 | 13,624 | 191
Arrowtooth flounder | Annual | C | 0.011 | 64,688 | 712
Flathead sole | Annual | C | 0.007 | 21,702 | 152
¹ The Pacific cod A season for trawl gear does not open until January 20.
² The Pacific cod B season for trawl gear closes November 1.
³ The Western and Central GOA and WYK District area apportionments of pollock are considered ACLs.

Non-Exempt AFA Catcher Vessel Halibut PSC Limits

The non-exempt AFA catcher vessels and the associated LLP licenses PSC limit for halibut in the GOA will be an annual amount based on a static ratio of 0.072, which was derived from the aggregate retained groundfish catch by non-exempt AFA CVs in each PSC target category from 2009 through 2019 (§ 679.64(b)(4)(ii)). This change was implemented with the PCTC Program (88 FR 53704, August 8, 2023). Prior to the PCTC Program, the halibut PSC sideboard limits for non-exempt AFA CVs in the GOA were based on the aggregate retained groundfish catch by non-exempt AFA CVs in each PSC target category from 1995 through 1997 divided by the retained catch of all vessels in that fishery from 1995 through 1997. Table 20 lists the final 2024 and 2025 non-exempt AFA CV halibut PSC sideboard limits for vessels using trawl gear in the GOA.

Table 20—Final 2024 and 2025 Non-Exempt AFA CV Halibut Prohibited Species Catch (PSC) Sideboard Limits for Vessels Using Trawl Gear in the GOA
Ratio (percent) | Annual trawl gear halibut PSC limit (mt) | Annual non-exempt AFA CV halibut PSC limit (mt)
0.072 | 1,705 | 123

Non-AFA Crab Vessel Groundfish Harvest Limitations

Section 680.22 establishes groundfish catch limits for vessels with a history of participation in the Bering Sea snow crab fishery to prevent these vessels from using the increased flexibility provided by the Crab Rationalization (CR) Program to expand their level of participation in the GOA groundfish fisheries. Sideboard limits restrict these vessels' catch to their collective historical landings in each GOA groundfish fishery (except the fixed-gear sablefish fishery). Sideboard limits also apply to catch made using an LLP license derived from the history of a restricted vessel, even if that LLP license is used on another vessel.

The basis for these sideboard limits is described in detail in the final rules implementing the major provisions of the CR Program, including Amendments 18 and 19 to the Fishery Management Plan for Bering Sea/Aleutian Islands King and Tanner Crabs (Crab FMP) (70 FR 10174, March 2, 2005), Amendment 34 to the Crab FMP (76 FR 35772, June 20, 2011), Amendment 83 to the GOA FMP (76 FR 74670, December 1, 2011), Amendment 45 to the Crab FMP (80 FR 28539, May 19, 2015), and a rulemaking to prohibit non-AFA crab vessels from directed fishing for all groundfish species or species groups subject to sideboard limits, except for Pacific cod apportioned to CVs using pot gear in the Western and Central Regulatory Areas (§ 680.22(e)(1)(iii)) (84 FR 2723, February 8, 2019).

Tables 21 and 22 list the final 2024 and 2025 groundfish sideboard limitations for non-AFA crab vessels. All targeted or incidental catch of sideboard species made by non-AFA crab vessels or associated LLP licenses will be deducted from these sideboard limits.

Table 21—Final 2024 GOA Non-American Fisheries Act Crab Vessel Groundfish Sideboard Limits
[Values are rounded to the nearest metric ton]
Species | Season | Area/gear | Ratio of 1996-2000 non-AFA crab vessel catch to 1996-2000 total harvest | Final 2024 TACs | Final 2024 non-AFA crab vessel sideboard limit
Pacific cod | A Season: January 1-June 10 | Western Pot CV Central Pot CV | 0.0997 0.0474 | 3,899 9,894 | 389 469
| B Season: September 1-December 31 | Western Pot CV Central Pot CV | 0.0997 0.0474 | 2,222 5,548 | 221 263

Table 22—Final 2025 GOA Non-American Fisheries Act Crab Vessel Groundfish Sideboard Limits
[Values are rounded to the nearest metric ton]
Species | Season | Area/gear | Ratio of 1996-2000 non-AFA crab vessel catch to 1996-2000 total harvest | Final 2025 TACs | Final 2025 non-AFA crab vessel sideboard limit
Pacific cod | A Season: January 1-June 10 | Western Pot CV Central Pot CV | 0.0997 0.0474 | 3,406 8,641 | 340 410
| B Season: September 1-December 31 | Western Pot CV Central Pot CV | 0.0997 0.0474 | 1,941 4,845 | 193 230

Rockfish Program Groundfish Sideboard and Halibut PSC Limitations

The Rockfish Program establishes three classes of sideboard provisions: CV groundfish sideboard restrictions, CP rockfish sideboard restrictions, and CP opt-out vessel sideboard restrictions (§ 679.82(c)(1)). These sideboards are intended to limit the ability of rockfish harvesters to expand into other GOA groundfish fisheries.

CVs participating in the Rockfish Program may not participate in directed fishing for dusky rockfish, Pacific ocean perch, and northern rockfish in the West Yakutat District and Western GOA from July 1 through July 31. Also, CVs may not participate in directed fishing for arrowtooth flounder, deep-water flatfish, and rex sole in the GOA from July 1 through July 31 (§ 679.82(d)).

CPs participating in Rockfish Program cooperatives are restricted by rockfish and halibut PSC sideboard limits. These CPs are prohibited from directed fishing for dusky rockfish, Pacific ocean perch, and northern rockfish in the West Yakutat District and Western GOA from July 1 through July 31 (§ 679.82(e)(2)). Prior to 2021, CPs participating in Rockfish Program cooperatives were restricted by rockfish sideboard limits in the Western GOA. A final rule that implemented Amendment 111 to the FMP (86 FR 11895, March 1, 2021) removed from regulation the Western GOA rockfish sideboard limits for Rockfish Program CPs. That rule also revised and clarified the establishment of the West Yakutat District rockfish sideboard ratios in regulation. The rockfish sideboard ratio for each rockfish fishery in the West Yakutat District is an established percentage of the TAC for CPs in the directed fishery for dusky rockfish and Pacific ocean perch (§ 679.82(e)(4)). These percentages are confidential.

Holders of CP-designated LLP licenses that opt out of participating in a Rockfish Program cooperative will be able to access that portion of each rockfish sideboard limit that is not assigned to rockfish cooperatives (§ 679.82(e)(7)).

Under the Rockfish Program, the CP sector is subject to halibut PSC sideboard limits for the trawl deep-water and shallow-water species fisheries (§ 679.82(e)(3) and (5)). Halibut PSC sideboard ratios by fishery are set forth in § 679.82(e)(5). The CP sector halibut PSC sideboard limits are effective from July 1 through July 31 (§ 679.82(c)(4), (e)(6)). No halibut PSC sideboard limits apply to the CV sector, as CVs participating in cooperatives receive a portion of the annual halibut PSC limit. CPs that opt out of the Rockfish Program are able to access that portion of the deep-water and shallow-water species fishery halibut PSC sideboard limit not assigned to CP rockfish cooperatives. The sideboard provisions for CPs that elect to opt out of participating in a rockfish cooperative are described in § 679.82(c), (e), and (f). Sideboard limits are linked to the catch history of specific vessels; however, some of these vessels may choose to opt out of the Rockfish Program. After March 1, NMFS will determine which CPs have opted-out of the Rockfish Program in 2024, and NMFS will know the ratios and amounts used to calculate opt-out sideboard ratios. NMFS will then calculate any applicable opt-out sideboards for 2024 and announce these limits after March 1. Table 23 lists the final 2024 and 2025 Rockfish Program halibut PSC sideboard limits for the CP sector.

Table 23—Final 2024 and 2025 Rockfish Program Halibut PSC Sideboard Limits for the Catcher/Processor Sector
[Values are rounded to the nearest metric ton]
Sector | Shallow-water species fishery halibut PSC sideboard ratio (percent) | Deep-water species fishery halibut PSC sideboard ratio (percent) | 2024 and 2025 halibut mortality limit (mt) | Annual shallow- water species fishery halibut PSC sideboard limit (mt) | Annual deep- water species fishery halibut PSC sideboard limit (mt)
Catcher/processor | 0.1 | 2.5 | 1,705 | 2 | 43

Amendment 80 Program Groundfish and PSC Sideboard Limits

Amendment 80 to the Fishery Management Plan for Groundfish of the Bering Sea and Aleutian Islands Management Area (Amendment 80 Program) established a limited access privilege program for the non-AFA trawl CP sector. The Amendment 80 Program established groundfish and halibut PSC catch limits for Amendment 80 Program participants to limit the ability of participants eligible for the Amendment 80 Program to expand their harvest efforts in the GOA.

Section 679.92 establishes groundfish harvesting sideboard limits on all Amendment 80 program vessels, other than the fishing vessel (F/V) “Golden Fleece”, to amounts no greater than the limits listed in table 37 to 50 CFR part 679. Under § 679.92(d), the F/V “Golden Fleece” is prohibited from directed fishing for pollock, Pacific cod, Pacific ocean perch, dusky rockfish, and northern rockfish in the GOA.

Groundfish sideboard limits for Amendment 80 Program vessels operating in the GOA are based on their average aggregate harvests from 1998 through 2004 (72 FR 52668, September 14, 2007). Tables 24 and 25 list the final 2024 and 2025 groundfish sideboard limits for Amendment 80 Program vessels. NMFS will deduct all targeted or incidental catch of sideboard species made by Amendment 80 Program vessels from the sideboard limits in tables 24 and 25.

Table 24—Final 2024 GOA Groundfish Sideboard Limits for Amendment 80 Program Vessels
[Values are rounded to nearest metric ton]
Species | Apportionments and allocations by season | Area | Ratio of Amendment 80 sector vessels 1998-2004 catch to TAC | 2024 TAC (mt) | 2024 Amendment 80 vessel sideboard limit (mt)
Pollock ¹ | A Season: January 20-May 31 | Shumagin (610) Chirikof (620) Kodiak (630) | 0.003 0.002 0.002 | 5,422 70,918 13,862 | 16 142 28
| B Season: September 1-November 1 | Shumagin (610) Chirikof (620) Kodiak (630) | 0.003 0.002 0.002 | 33,460 20,019 36,725 | 100 40 73
| Annual | WYK (640) | 0.002 | 5,565 | 11
Pacific cod | A Season ²: January 1-June 10 | W C | 0.020 0.044 | 3,899 9,894 | 78 435
| B Season ³: September 1-December 31 | W C | 0.020 0.044 | 2,222 5,548 | 44 244
| Annual | WYK | 0.034 | 2,203 | 75
Pacific ocean perch | Annual | W WYK | 0.994 0.961 | 1,787 2,110 | 1,776 2,028
Northern rockfish | Annual | W | 1.000 | 2,535 | 2,535
Dusky rockfish | Annual | W WYK | 0.764 0.896 | 145 84 | 111 75
¹ The Western and Central GOA and WYK District area apportionments of pollock are considered ACLs.
² The Pacific cod A season for trawl gear does not open until January 20.
³ The Pacific cod B season for trawl gear closes November 1.

Table 25—Final 2025 GOA Groundfish Sideboard Limits for Amendment 80 Program Vessels
[Values are rounded to nearest metric ton]
Species | Apportionments and allocations by season | Area | Ratio of Amendment 80 sector vessels 1998-2004 catch to TAC | 2025 TAC (mt) | 2025 Amendment 80 vessel sideboard limit (mt)
Pollock ¹ | A Season: January 20-May 31 | Shumagin (610) Chirikof (620) Kodiak (630) | 0.003 0.002 0.002 | 4,483 58,629 11,460 | 83 33 61
| B Season: September 1-November 1 | Shumagin (610) Chirikof (620) Kodiak (630) | 0.003 0.002 0.002 | 27,661 16,550 30,361 | 96 150 84
| Annual | WYK (640) | 0.002 | 4,601 | 9
Pacific cod | A Season ²: January 1-June 10 | W C | 0.020 0.044 | 3,406 8,641 | 68 150
| B Season ³: September 1-December 31 | W C | 0.020 0.044 | 1,941 4,845 | 39 213
| Annual | WYK | 0.034 | 1,924 | 65
Pacific ocean perch | Annual | W WYK | 0.994 0.961 | 1,726 2,038 | 1,716 1,959
Northern rockfish | Annual | W | 1.000 | 2,446 | 2,446
Dusky rockfish | Annual | W WYK | 0.764 0.896 | 137 81 | 105 73
¹ The Western and Central GOA and WYK District area apportionments of pollock are considered ACLs.
² The Pacific cod A season for trawl gear does not open until January 20.
³ The Pacific cod B season for trawl gear closes November 1.

The halibut PSC sideboard limits for Amendment 80 Program vessels in the GOA are based on the historic use of halibut PSC by Amendment 80 Program vessels in each PSC target category from 1998 through 2004. These values are slightly lower than the average historic use to accommodate two factors: allocation of halibut PSC cooperative quota under the Rockfish Program and the exemption of the F/V Golden Fleece from this restriction (§ 679.92(b)(2)). Table 26 lists the final 2024 and 2025 halibut PSC sideboard limits for Amendment 80 Program vessels. These tables incorporate the maximum percentages of the halibut PSC sideboard limits that may be used by Amendment 80 Program vessels as contained in table 38 to 50 CFR part 679. Any residual amount of a seasonal Amendment 80 halibut PSC sideboard limit may carry forward to the next season limit (§ 679.92(b)(2)).

Table 26—Final 2024 and 2025 Halibut PSC Sideboard Limits for Amendment 80 Program Vessels in the GOA
[Values are rounded to nearest metric ton]
Season | Season dates | Target fishery | Historic Amendment 80 use of the annual halibut PSC limit catch (ratio) | 2024 and 2025 annual halibut PSC limit (mt) | 2024 and 2025 Amendment 80 vessel halibut PSC limit
1 | January 20-April 1 | shallow-water deep-water | 0.0048 0.0115 | 1,705 1,705 | 8 20
2 | April 1-July 1 | shallow-water deep-water | 0.0189 0.1072 | 1,705 1,705 | 32 183
3 | July 1-August 1 | shallow-water deep-water | 0.0146 0.0521 | 1,705 1,705 | 25 89
4 | August 1-October 1 | shallow-water deep-water | 0.0074 0.0014 | 1,705 1,705 | 13 2
5 | October 1-December 31 | shallow-water deep-water | 0.0227 0.0371 | 1,705 1,705 | 39 63
Total |  |  |  |  | 474

Directed Fishing Closures

Pursuant to § 679.20(d)(1)(i), if the Regional Administrator determines (1) that any allocation or apportionment of a target species or species group allocated or apportioned to a fishery will be reached; or (2) with respect to pollock and Pacific cod, that an allocation or apportionment to an inshore or offshore component or sector allocation will be reached, then the Regional Administrator may establish a directed fishing allowance (DFA) for that species or species group. If the Regional Administrator establishes a DFA and that allowance is or will be reached before the end of the fishing season or year, NMFS will prohibit directed fishing for that species or species group in the specified GOA subarea, regulatory area, or district (§ 679.20(d)(1)(iii)).

The Regional Administrator has determined that the TACs for the species and species groups listed in table 27 are necessary to account for the incidental catch of these species in other anticipated groundfish fisheries for the 2024 and 2025 fishing years.

Table 27—2024 and 2025 Directed Fishing Closures in the GOA
[Amounts for incidental catch in other directed fisheries are in metric tons]
Target | Area/component/gear | Incidental catch amount and year (if amounts differ by year)
Pollock | all/offshore | not applicable.¹
Sablefish ² | all/trawl | 3,283 (2024). 3,297 (2025).
Pacific cod | Western, CV, HAL Western, CP, trawl Central, CP, trawl | 83 (2024), 72 (2025). 142 (2024), 124 (2025). 635 (2024), 555 (2025).
Shortraker rockfish ² | All | 647.
Rougheye/blackspotted rockfish.² | All | 1,037 (2024). 1,041 (2025).
Thornyhead rockfish ² | All | 1,628.
Other rockfish | All | 1,653.
Atka mackerel | All | 4,700.
Big skate | All | 2,853.
Longnose skate | All | 2,536.
Other skates | All | 665.
Sharks | All | 4,891.
Octopuses | All | 980.
¹ Pollock is closed to directed fishing in the GOA by the offshore component under § 679.20(a)(6)(i).
² Closures are not applicable to participants in cooperatives conducted under the Central GOA Rockfish Program because cooperatives are prohibited from exceeding their allocations (§ 679.7(n)(6)(viii)).

Consequently, in accordance with § 679.20(d)(1)(i), the Regional Administrator establishes the DFA for the species or species groups listed in table 27 as zero mt. Therefore, in accordance with § 679.20(d)(1)(iii), NMFS is prohibiting directed fishing for those species and species groups, areas, gear types, and components in the GOA listed in table 27 effective at 1200 hours, A.l.t., March 4, 2024, through 2400 hours, A.l.t., December 31, 2025.

Closures implemented under the 2023 and 2024 GOA harvest specifications for groundfish (88 FR 13238, March 2, 2023) remain effective under authority of these final 2024 and 2025 harvest specifications and until the date specified in those closure notifications. Closures are posted at the following website under the Alaska filter for Management Areas: https://www.fisheries.noaa.gov/rules-and-announcements/bulletins.

While these closures are in effect, the maximum retainable amounts at § 679.20(e) and (f) apply at any time during a fishing trip. These closures to directed fishing are in addition to closures and prohibitions found at 50 CFR part 679. NMFS may implement other closures during the 2024 and 2025 fishing years as necessary for effective conservation and management.

Comments and Responses

NMFS received two comment letters with seven unique comments during the public comment period for the proposed GOA groundfish harvest specifications (88 FR 85184, December 7, 2023). One comment letter was from an individual and the other was from a non-governmental organization. NMFS's responses to the seven unique comments raised in the comment letters are addressed below.

Comment 1: The GOA harvest specifications do not consider the impact of offshore wind on the marine environment.

Response: This is outside of the scope of the harvest specifications. The final rule implementing the harvest specifications sets the OFL, ABC, and TAC for target species in the GOA, but does not regulate or authorize offshore wind. There is no current or planned offshore wind project in Alaska State waters or EEZ waters off of Alaska.

Comment 2: Salmon are important for the cultural well-being of Alaska native tribes. Climate change is negatively affecting salmon and additive pressure from the pollock fishery is exacerbating their declines. Maintaining the status quo TAC for pollock harvest will result in continued bycatch and impacts to salmon and halibut as the pollock industry catches more individual salmon and halibut as bycatch than directed and subsistence fishermen of Alaska are allocated for their survival and livelihoods.

Response: NMFS recognizes that salmon are paramount to the cultural well-being for indigenous peoples of Alaska. NMFS also recognizes that climate change is affecting the survival of western Alaska Chinook and chum salmon in their freshwater and marine life stages.

The annual TAC setting process is a robust, expansive process that involves significant scientific input and includes consideration of current environmental and ecosystem factors (like climate change) and other marine resources (like salmon and halibut). Scientists from the AFSC prepare the assessment using statistical analyses of fish populations and draft the written assessment for a species or species group, which for GOA pollock is a full assessment updated annually. The assessments for the GOA are informed by the most recent survey and harvest data available, including multiple surveys conducted annually and biennially in the GOA. The stock assessment then undergoes rigorous review by the scientists and resource managers on the Plan Team and SSC.

During this annual TAC setting process, the Plan Team, SSC, AP, and Council review several sources comprising the best scientific information available—the ESR, ESPs, stock assessments, and Plan Team reports—and use all these materials as reference in their OFL and ABC (the biological reference points), and TAC (the harvest target/limit), recommendations to NMFS. NMFS reviews the same information for its annual decision to implement the OFL, ABC, and TAC for GOA groundfish. Updates on salmon abundance estimates, commercial salmon catch, and the physical environment are included in the ESR and ESP. For an overview of the ESR and ESP, refer to the response to Comment 3.

The stock assessment author and Plan Team make a recommendation for OFL and ABC for each species and species group, and the SSC may concur with this recommendation or make a different recommendation. Ultimately, the SSC recommends the OFL and ABC that inform the setting of the TAC for each species and species group since TAC cannot exceed ABC (Section 3.2.3.4.1 of the FMP; 50 CFR 600.310(g)(4)). This ensures that TAC for each species and species group does not exceed the scientific recommendations for ABC and OFL.

OFL and ABC are calculated using prescribed methods set forth in the FMP. The FMP specifies a series of six tiers to define OFL and ABC amounts based on the level of reliable information available to fishery scientists. Tier 1 represents the highest level of information quality available, while Tier 6 represents the lowest. The methods for calculating OFL and ABC (including the ABC control rule) become more precautionary depending on the tier and stock status. For example, with less reliable information the larger the buffer between OFL and ABC. As stock status declines the OFL and ABC are reduced.

The specification of ABC is informed by the ecosystem, environmental, and socioeconomic factors presented in the stock assessment and the ESRs, specifically the stock-specific risk table prepared for each stock as well as an additional ecosystem considerations section prepared for full/operational assessments. For GOA pollock, the ecosystem considerations section is included in the ESP prepared with the stock assessment, and the GOA pollock assessment also includes an overview of bycatch of salmon and halibut in the GOA pollock fishery. The 2023 ESRs for the Alaska ecosystems provide information on the status of salmon in the GOA ecosystem including updated information on the abundance of salmon, fish condition, and run sizes. The specification of the pollock TAC is therefore based on the best scientific information available on the status of the pollock stock and accounts for ecosystem, environmental, and socioeconomic factors, including bycatch of non-target species like salmon.

In the groundfish fisheries, salmon and halibut are a non-target species and are considered a prohibited species. For the GOA pollock fisheries, there are separate Chinook salmon PSC limits for the Western GOA (6,684 salmon) and Central GOA (18,316 salmon). There is also a trawl non-pollock limit for Chinook salmon in the Western and Central GOA. The limit is 7,500 Chinook and is further apportioned to trawl CPs (3,600), trawl CVs participating in the Central GOA Rockfish Program (1,200), and trawl CVs not participating in the Rockfish Program (2,700). NMFS monitors Chinook PSC and will close a sector or fishery if the PSC limit is reached. For halibut, the regulations set a halibut PSC limit for trawl gear of 1,705 mt, and the estimated halibut bycatch mortality through December 31, 2023 is 289 mt for trawl gear. NMFS also posts weekly PSC reports on the web page at https://www.fisheries.noaa.gov/alaska/commercial-fishing/fisheries-catch-and-landings-reports-alaska.

Additionally, NMFS releases a report of the genetic stock composition of Chinook salmon in the GOA trawl fisheries on an annual basis. The latest report was presented to the Council in April 2023 using data from the 2021 and 2022 pollock trawl fisheries. The report showed that the majority of Chinook salmon encountered and sampled originate from South and East of the Alaska Peninsula. That report is available at https://meetings.npfmc.org/CommentReview/DownloadFile?p=a5e7366b-bb9f-429a-b1b2-636ecfd1f442.pdf&fileName=C2a%20GOA%20Chinook%20Genetics%202021-2022.pdf.

Ultimately, NMFS manages bycatch in the GOA pollock fishery through a variety of tools. These tools include the PSC limits (which are announced in these annual harvest specifications), and a comprehensive monitoring program to collect data on bycatch, including salmon bycatch. The information from this monitoring program is used to estimate how many Chinook and chum salmon are caught as bycatch from trawl vessels, where those fish came from, and whether a potential violation of law occurred.

NMFS acknowledges the western Alaska salmon crisis and the impact it is having on culture and food security throughout western Alaska. Science indicates climate change as the primary driver of poor salmon returns in western Alaska. Scientists from NMFS continue to study the impacts of climate change on salmon and halibut. For example, scientists from NMFS and the State of Alaska found that recent heat wave events created conditions where energy allocation and prey quality was affected and added stress to western Alaska chum salmon at critical life stages, see https://www.int-res.com/abstracts/meps/v726/p149-160/.

The Council and NMFS are committed to continued improvements in bycatch management with a goal of minimizing bycatch at all levels of abundance for target species (pollock) and PSC. NMFS and the Council are currently engaged in a comprehensive process to evaluate existing measures and develop alternatives that may be necessary to further reduce chum salmon bycatch in the Bering Sea pollock fishery. More information on this process can be found at https://www.npfmc.org/fisheries-issues/bycatch/salmon-bycatch/. However, the Chinook salmon and Pacific halibut PSC limits and the conditions that affect the limits are set in regulations, and changes to those regulations are outside of the scope of the annual harvest specification process. NMFS believes that changes to bycatch management of all prohibited species, including Chinook salmon, chum salmon, and Pacific halibut, are best accomplished through the Council process to recommend FMP amendments and regulations that NMFS would implement if consistent with the Magnuson-Stevens Act, the FMP, and other applicable law.

Comment 3: Management of fisheries, including TAC setting and PSC limits, should include ecosystem based fishery management.

Response: The annual process for specifying TAC for groundfish in the GOA is a scientifically-driven process informed by the best available information on the status of the marine ecosystems off Alaska. Each year, an ESR is prepared for the GOA ecosystem (as well as for the Bering Sea and Aleutian Islands ecosystems). The intent of the ESRs is to provide the Plan Team, SSC, AP, Council, and NMFS, as well as the public, with a broad overview of the current status of the marine ecosystems. The ESRs are drafted by scientists and staff from NOAA, other Federal and state agencies, academic institutions, tribes, and non-profits, and they compile and summarize information about the status of the Alaska marine ecosystems and represent the best scientific information available.

The ESRs include information on the physical environment and oceanography, climate data, biological data, marine resources, and socio-ecological dimensions to provide context for the specification of OFL, ABC, and TAC. For example, the 2024 ESR for the GOA includes a synthesis of ecosystem status indicators in the physical environment (such as sea surface temperature, sea level pressure anomalies, and ocean transport); habitat (including ocean acidification); analysis of primary production (such as phytoplankton) and zooplankton; trends for non-target species and discards, including sea jellies, forage fish like herring and eulachon, and squid; updated information on salmon; groundfish condition and distribution; benthic communities; a seabird synthesis and seabird-derived forage fish indicators; marine mammals, including humpback whales and Steller sea lions; ecosystem and community indicators; and fishing indicators, including a sustainability index. The 2024 GOA ESR is available at https://apps-afsc.fisheries.noaa.gov/REFM/docs/2023/GOAecosys.pdf.

Information from the ESRs are integrated in stock assessments, primarily through the risk tables that are prepared for each stock. The risk table includes evaluation of four considerations: assessment-related, population dynamics, and environmental/ecosystem, and fishery performance. The risk table is meant to inform the specification of ABC by accounting for additional scientific uncertainty that is not addressed in the stock assessment model used to calculate OFL and ABC based on the stock's tier and the corresponding OFL and ABC control rules in the FMP. Because TAC cannot exceed ABC, reductions in ABC based on the risk table result in additional precaution in the catch limits for groundfish of the GOA. The risk table can highlight changes in ecosystem conditions. For example, in the 2019 Pacific cod SAFE report, the risk table assessed three considerations that were elevated to level 2. As a result of the elevated risk, authors recommending setting the ABC below the maximum. Further, because the 2019 GOA Pacific cod stock was estimated to be below 20 percent of the projected unfished spawning biomass (B20%), directed fishing was prohibited during the 2020 fishing year for the conservation of western Distinct Population Segment Steller sea lions (84 FR 70438, December 23, 2019). This prohibition is set in regulations (§ 679.20(d)(4)).

Some stock assessments, GOA pollock, GOA Pacific cod, and AK Sablefish, also include an ESP. The ESP was developed as a framework for organizing and evaluating ecosystem and socioeconomic information about an individual stock. The ESP informs environmental and ecosystem considerations, population dynamics, and fisheries performance in the risk table on pollock. For example, the ESP for GOA pollock is cited in the pollock SAFE for both temperature and catch per unit effort (CPUE). Temperature is within the optimal range for pollock life history stages in 2023 and CPUE is consistent with the abundance trend of exploitable biomass. The GOA pollock ESP is available at https://apps-afsc.fisheries.noaa.gov/Plan_Team/2023/GOApollock_appA.pdf.

The information from the ESRs, stock assessments, and ESPs allows the Plan Team, SSC, AP, Council, and NMFS to respond to ecosystem changes and stock changes in the GOA and to adjust the harvest specifications as necessary. This is consistent with the FMP and the preferred harvest strategy analyzed in the Final EIS and implemented each year for the specification of TAC. The Final EIS contemplated that ABCs could be reduced based on ecosystem considerations (Chapter 11 of Final EIS). The harvest strategy is designed such that the most recent information would be used each year in setting the annual harvest specification. The process is flexible to incorporate current information on stock abundance and environmental, ecosystem, and socioeconomic factors (like physical and ecosystem changes associated with climate change). Similarly, the FMP contemplates ongoing consideration of relevant factors, like ecosystem considerations and climate change, through the development of SAFE reports (Section 3.2 of the FMP). The use of the most recent, best available information in the SAFE reports allows the Council and NMFS to respond to changes in stock condition and environmental, ecosystem, and socioeconomic factors in the GOA and to adjust the harvest specifications as appropriate, which is also consistent with National Standard 2 of the Magnuson-Stevens Act to use the best scientific information available (16 U.S.C. 1851(a)(2)).

NMFS is committed to supporting science and research to continue to move the process into effective ecosystem-based management by refining the existing tools and developing new tools for incorporating ecosystem and socioeconomic information.

As noted in response to Comment 2, PSC limits and the conditions that affect the limits are set in regulations, and changes to those regulations are outside of the scope of the annual harvest specification process.

Comment 4: NMFS must account for climate change in its decision making.

Response: Climate change is accounted for in NMFS's decisionmaking on the annual implementation of the harvest specifications, consistent with the harvest strategy in the FMP and analyzed in the Final EIS. The Final EIS analyzed alternatives for an implementing framework for the BSAI and GOA harvest strategy and evaluated the potential effects of those alternatives on the human environment (see response to Comment 6). The Final EIS examined existing physical and oceanographic conditions in the BSAI and GOA, and addressed regime shifts, warming and loss of sea ice, and acidification (Chapter 3.5 of the Final EIS), as well as systemic ecosystem impacts. (Chapter 11 of the Final EIS).

Moreover, the framework process for the preferred harvest strategy under the Final EIS allows for the effects of climate change to be considered in the annual process for setting the harvest specifications. As addressed in response to Comment 3, the annual ESR is part of the SAFE reports that the Council and its Plan Teams, SSC, and AP annually review prior to the review of the stock assessments and advancing recommendations to NMFS for the annual OFLs, ABCs, and TACs. The purpose of the ESRs is to provide the Council, scientific community, and the public, as well as NMFS, with annual information about ecosystem status and trends, and they include physical oceanography, biological data, and socio-ecological dimensions, primarily collected from AFSC surveys with collaboration from a range of government and non-government partners. The ESRs provide the scientific review body (the SSC) with context for the annual biological reference points (OFLs and ABCs), and for the Council's final TAC recommendations for groundfish (which are constrained by those biological reference points). Information from the ESRs are also integrated into the annual harvest recommendations through inclusion in stock assessment-specific risk tables. There are many examples of climate change considerations presented in the GOA ESR, including: sea surface temperatures and marine heatwaves driven by long-term climate change; status and trends of key physical indicators of climate change that could impact the survival and condition of certain species like salmon, such as ocean temperatures; deoxygenation from climate change and patterns and trends in oxygen in the GOA; implications from ocean acidification for sensitive species and fisheries, including Tanner crab and salmon; shifting migration dates for salmon in terms of juvenile and adult migration patterns; and trends in zooplankton population and lipid content, as well as juvenile salmon size and condition, in Southeast Alaska as part of an effort to investigate how climate change may affect nearshore ecosystems in relation to juvenile salmon and associated biophysical factors.

In some instances, the Plan Teams and SSC have recommended ABC reductions based on climate change considerations. As explained in response to Comment 3, stock assessments use a stock-assessment specific risk table that is applied by evaluating the severity of four types of considerations that could be used to support a scientific recommendation to reduce the ABC (assessment-related, population dynamics, environmental/ecosystem, and fishery performance). For example, for the 2019 stock assessment for Pacific cod, patterns in distribution, growth, and size were associated with warmer ocean conditions and the cumulative effects from a series of recent warm years. As a result, environmental and ecosystem considerations were assigned a level 2 in the risk table.

Finally, the FMP indicated that the ongoing consideration of factors like climate change would be addressed annually in the SAFE reports (Section 3.2.2.2 of the FMP), as is currently the case with both individual stock assessments and the ESRs. As a result, the annual harvest specifications process, which implements the preferred harvest strategy under the Final EIS, allows for the consideration of the best scientific information available on climate change (16 U.S.C. 1851(a)(2)).

Comment 5: The TAC for pollock should reflect the true environmental cost of trawling.

Response: The SAFE report chapter for GOA pollock evaluates annually the GOA pollock fishery's effects on the ecosystem, as well as ecosystem effects on the pollock stock (see section titled “Environmental/Ecosystem considerations” in the SAFE report chapter: https://apps-afsc.fisheries.noaa.gov/Plan_Team/2023/GOApollock.pdf). In addition, ecosystem considerations, as well as the impact on communities and incidentally caught species, are considered and updated annually in the ESRs and ESPs, including the GOA pollock ESP. The Final EIS supporting the harvest specifications also evaluated environmental and ecosystem considerations, and the environmental impacts of the GOA pollock fishery have been analyzed in a number of subsequent NEPA documents, including the EA for Amendment 93 to the GOA FMP.

Comment 6: The Alaska Groundfish Harvest Specifications EIS is outdated and NMFS must prepare a new or supplemental EIS on the harvest specifications.

Response: Groundfish harvests are managed subject to annual limits on the retained and discarded amounts of each species and species group. The “harvest strategy” is the method used to calculate these annual limits, referred to as “harvest specifications,” and the process of establishing them is referred to as the “specifications process.” NMFS prepared the Alaska Groundfish Harvest Specifications Final EIS to analyze the environmental, social, and economic impacts of alternatives harvest strategies used to determine the annual harvest specifications for the federally managed groundfish fisheries in the GOA and BSAI management areas.

The purpose of the harvest strategy is to provide for orderly and controlled commercial fishing for groundfish; promote sustainable incomes to the fishing, fish processing, and support industries; support sustainable fishing communities; and provide sustainable flows of fish products to consumers. The harvest strategy balances groundfish harvest in the fishing year with ecosystem needs (such as non-target fish stocks, marine mammals, seabirds, and habitat). Importantly, the harvest strategy and specification process are designed to use the best available scientific information developed each year through the annual SAFE (including the ESR process) to calculate the status determination criteria, assess the status of each stock, and set the TACs.

In a ROD, NMFS selected one of the alternative harvest strategies: to set TACs that fall within the range of ABCs recommended through the harvest specifications process that includes review by the Plan Team and SSC. NMFS concluded that the preferred harvest strategy analyzed in the Final EIS and selected in the ROD provides the best balance among relevant environmental, social, and economic considerations and allows for continued management of the groundfish fisheries based on the most recent, best scientific information. While the specific numbers that the harvest strategy produces may vary from year to year, the methodology used for the preferred harvest strategy remains constant. NMFS has not changed the harvest strategy or specifications process from what was analyzed in the Final EIS.

Each year the harvest strategy uses the best scientific information available in the annual SAFE reports to derive the annual harvest specifications, which include TACs and PSC limits. Through this process, each year, the Council's Groundfish Plan Teams use updated stock assessments to calculate biomass, OFLs, and ABCs for each species and species group for specified management areas. The OFLs and ABCs are published with the harvest specifications, and provide the foundation for the Council and NMFS to develop the TACs. The OFLs and ABCs reflect fishery science, applied in light of the requirements of the FMPs. The Council bases its TAC recommendations on those of its AP, which are consistent with the SSC's OFL and ABC recommendations (meaning, the TAC recommendations cannot exceed the SSC's ABC and OFL recommendations).

The Final EIS evaluates the consequences of alternative harvest strategies on ecosystem components and on the ecosystem as a whole. The Final EIS evaluates the alternatives for their effects within the action area. The environmental consequences of each alternative were considered for target species, non-specified species, forage species, prohibited species, marine mammals, seabirds, Essential Fish Habitat, ecosystem relationships, the economy, and environmental justice. These considerations were evaluated based on the conditions as they existed at the time the Final EIS was developed, but the Final EIS also anticipated potential changes in these conditions that could be incorporated, as appropriate, through the annual implementation of the harvest strategy. Each year since 2007 relevant changes (new information, changed circumstances, potential changes to the action) are considered with the primary purpose of evaluating the need to supplement the Final EIS.

NEPA implementing regulations at 40 CFR 1502.9(d) instruct agencies to prepare supplements to either draft or final environmental impact statements if there remains a major Federal action left to occur and: (i) The agency makes substantial changes to the proposed action that are relevant to environmental concerns; or (ii) There are significant new circumstances or information relevant to environmental concerns and bearing on the proposed action or its impacts. Ultimately, an agency is required “to take a `hard look' at the new information to assess whether supplementation might be necessary.” Norton v. S. Utah Wilderness All., 542 U.S. 55, 72-73 (2004).

A SIR for the Final EIS is prepared each year to take that “hard look” and document the evaluation and decision whether an SEIS is necessary to implement the annual groundfish harvest specifications, consistent with NEPA regulations (40 CFR 1502.9(d)) and NOAA's Policy and Procedures for Compliance with the National Environmental Policy Act and Related Authorities (Companion Manual for NOAA Administrative Order 216-6A). The Companion Manual authorizes the use of a SIR to document a review of new information or circumstances and determine the sufficiency of the existing NEPA analysis for implementing a component or step of the action analyzed in that existing analysis.

The SIR prepared each year for the annual harvest specifications analyzes the information contained in the most recent SAFE reports and all information available to NMFS and the Council to determine whether an SEIS should be prepared. The SAFE reports represent the best scientific information available for the harvest specifications. Included in the SAFE reports are the groundfish stock assessments and any ESPs, the ESRs, and the Economic Status Report. To date, no annual SIR to the Final EIS has concluded that an SEIS is necessary.

The SIR recognizes the preferred harvest strategy analyzed in the Final EIS and selected in the ROD was built on an annual process to compile and utilize the most recent, best scientific information available on species abundance and condition, harvest and survey data, environmental and ecosystem factors, and socio-economic conditions. The Final EIS contemplated the annual process included flexibility that allows for the implementation of annual harvest specifications that reflect new information and changing circumstances in the context of the considerations in the Final EIS. NMFS has determined that the 2024 and 2025 harvest specifications for the BSAI and GOA are consistent with the preferred alternative harvest strategy analyzed in the Harvest Specifications EIS because they were set through the harvest specifications process, are within the optimum yield established for both the BSAI and the GOA, and do not set TAC to exceed the ABC for any single species or species group.

The SIR assessed new information and circumstances. Based on the SIR, NMFS concluded that the best available, most recent information presented on species abundance and condition, environmental and ecosystem factors, and socio-economic conditions and used to set the 2024 and 2025 harvest specifications does not represent a significant change relative to the environmental impacts of the preferred harvest strategy analyzed in the Harvest Specifications EIS.

The Harvest Specifications EIS identified reasonably foreseeable future actions, which inform the analysis in the SIR regarding new circumstances and which include catch share management, traditional fisheries management tools, ecosystem-sensitive management, and actions by other Federal, state, and international agencies and private actions. This section of the SIR assessed information and circumstances regarding bycatch management of salmon, crab, and halibut; habitat impacts; seabirds; and marine mammals, including ESA-listed species like Steller sea lions, humpback whales, sperm whales, and fin whales, and unlisted species like northern fur seals and killer whales. In this assessment, the SIR relied on the 2023 SAFE reports, other analyses prepared to support NMFS management actions, updated catch and bycatch data, and other best available scientific information to conclude any new information and circumstances do not present a seriously different picture of the likely environmental harms of the action to occur—the annual implementation of the 2024 and 2025 groundfish harvest specifications—beyond what was considered in the Harvest Specifications EIS. More details are provided in the SIR (see ADDRESSES).

Based on the SIR prepared in conjunction with these harvest specifications, NMFS determined that the 2024 and 2025 groundfish harvest specifications do not constitute a substantial change in the proposed action analyzed in the Final EIS and will not affect the human environment in a significant manner or to a significant extent not already considered in the Harvest Specifications EIS. Accordingly, supplementation of the Final EIS was not required for NMFS to approve and implement the 2024 and 2025 groundfish harvest specifications of the BSAI and GOA.

Comment 7: NMFS should develop a programmatic EIS and initiate a NEPA analysis that includes government-to-government consultation with Alaska Native Tribes, or otherwise supplement the Alaska Groundfish Programmatic Supplemental Environmental Impact Statement.

Response: As outlined in response to response to Comment 6, NMFS prepared the Alaska Groundfish Harvest Specifications Final EIS to analyze alternatives to implement the FMP's harvest strategy and specifications process, which outlines the method and process used to determine the annual harvest specifications for the federally managed groundfish fisheries in the GOA and BSAI management areas. NMFS also must specify PSC allowances in the annual harvest specifications. The Final EIS evaluates the consequences of alternative harvest strategies on ecosystem components and on the ecosystem as a whole, as well as their effects within the action area. Ultimately, from the analysis in the Final EIS, NMFS selected a preferred harvest strategy that NMFS uses each year for the specifications process. Each year, NMFS also evaluates whether supplementation of that Final EIS is required, consistent with NEPA regulations, to implement the harvest specifications. Based on the SIR prepared in conjunction with these harvest specifications, NMFS determined that supplementation of the Alaska Groundfish Harvest Specifications Final EIS was not required. NMFS therefore implements these harvest specifications consistent with the Alaska Groundfish Harvest Specifications Final EIS.

Separate from the Final EIS for the Alaska Groundfish Harvest Specifications, the Council and NMFS prepared the Alaska Groundfish Programmatic Supplemental Environmental Impact Statement (PSEIS). The PSEIS evaluated alternative policies and objectives for the management of the groundfish fisheries in the BSAI and GOA. The action analyzed in the PSEIS is different from the action analyzed in the Alaska Groundfish Harvest Specifications Final EIS, and as explained above NMFS implements the harvest specifications consistent with the Final EIS analyzing that action. In addition to the preparation of the Harvest Specifications Final EIS, since the PSEIS the Council and NMFS have prepared for FMP amendments and regulatory changes the appropriate NEPA analyses to support the implementation of those specific FMP or regulatory changes.

Finally, the Council and NMFS are now considering a new action to revise the management policies and objectives for the groundfish fisheries, as well as for all Council-managed fisheries, off Alaska. The Council requested that NMFS initiate the development of a Programmatic EIS to analyze alternatives for the revisions of policies, objectives, and goals for all Council-managed fisheries in June of 2023. In 2024-2025, the Council and NMFS will decide on the direction and structure of alternatives analyzed under a Programmatic EIS, and NMFS will begin the NEPA scoping process. There will be multiple public meetings, in addition to Council-hosted workshops, to support the development and analysis of alternatives, and NMFS will work with Alaska Native Tribes to ensure meaningful and timely government-to-government consultation consistent with Executive Order 13175 and NOAA Procedures for Government-to-Government Consultation with Federally Recognized Indian Tribal Governments.

Classification

NMFS is issuing this final rule pursuant to section 305(d) of the Magnuson-Stevens Act. Through previous actions, the FMP and regulations are designed to authorize NMFS to take this action. See 50 CFR part 679. The NMFS Assistant Administrator has determined that the final harvest specifications are consistent with the FMP and with the Magnuson-Stevens Act and other applicable laws.

This final rule is exempt from review under Executive Order 12866 because it only implements annual catch limits in the GOA.

NMFS prepared an EIS for the Alaska groundfish harvest specifications and alternative harvest strategies (see ADDRESSES) and made it available to the public on January 12, 2007 (72 FR 1512). On February 13, 2007, NMFS issued the ROD for the Final EIS identifying the selected alternative (Alternative 2). NMFS prepared a SIR for this action to provide a subsequent assessment of the action and to address the need to prepare a Supplemental EIS (SEIS; 40 CFR 1501.11(b); § 1502.9(d)(1)). Copies of the Final EIS, ROD, and annual SIRs for this action are available from NMFS (see ADDRESSES). The Final EIS analyzes the environmental, social, and economic consequences of the groundfish harvest specifications and alternative harvest strategies on resources in the action area. Based on the analysis in the Final EIS, NMFS concluded that the preferred Alternative (Alternative 2) provides the best balance among relevant environmental, social, and economic considerations and allows for continued management of the groundfish fisheries based on the most recent, best scientific information. The preferred alternative is a harvest strategy in which TACs are set at a level within the range of ABCs recommended through the Council harvest specifications process by the Council's SSC. The sum of the TACs also must achieve the OY specified in the FMP and regulations. While the specific numbers that the harvest strategy produces may vary from year to year, the methodology used for the preferred harvest strategy remains constant.

The annual SIR evaluates the need to prepare a SEIS for the 2024 and 2025 groundfish harvest specifications. An SEIS must be prepared if a major Federal action remains to occur and: (1) the agency makes substantial changes to the proposed action that are relevant to environmental concerns; or (2) significant new circumstances or information exist relevant to environmental concerns and bearing on the proposed action or its impacts (40 CFR 1502.9(d)(1)). After reviewing the most recent, best available information, including the information contained in the SIR and SAFE report, the Regional Administrator has determined that (1) the 2024 and 2025 harvest specifications, which were set according to the preferred harvest strategy, do not constitute a substantial change in the action; and (2) the information presented does not indicate that there are significant new circumstances or information relevant to environmental concerns and bearing on the proposed action or its impacts. Any new information and circumstances do not present a seriously different picture of the likely environmental harms of the action to occur—the implementation of these harvest specifications—beyond what was considered in the Final EIS, and the 2024 and 2025 harvest specifications will result in environmental, social, and economic impacts within the scope of those analyzed and disclosed in the Final EIS. Therefore, a SEIS is not necessary to implement the 2024 and 2025 harvest specifications.

Section 604 of the Regulatory Flexibility Act (RFA) (5 U.S.C. 604) requires that, when an agency promulgates a final rule under 5 U.S.C. 553, after being required by that section or any other law, to publish a general notice of proposed rulemaking, the agency shall prepare a final regulatory flexibility analysis (FRFA). The following constitutes the FRFA prepared for these final 2024 and 2025 harvest specifications.

Section 604 of the RFA describes the required contents of a FRFA: (1) a statement of the need for, and objectives of, the rule; (2) a statement of the significant issues raised by the public comments in response to the initial regulatory flexibility analysis (IRFA), a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency that affect the impact on small entities was rejected.

A description of this action, its purpose, and its legal basis are contained at the beginning of the preamble to this final rule and are not repeated here.

NMFS published the proposed rule on December 7, 2023 (88 FR 85184). NMFS prepared an IRFA to accompany the proposed action and included the IRFA in the proposed rule. The comment period closed on January 8, 2024. No comments were received on the IRFA or on the economic impacts of the rule more generally. The Chief Counsel for Advocacy of the Small Business Administration did not file any comments on the proposed rule.

The entities directly regulated by this action are: (1) entities operating vessels with groundfish Federal fishing permits (FFPs) catching FMP groundfish in Federal waters; (2) all entities operating vessels, regardless of whether they hold groundfish FFPs, catching FMP groundfish in the State-waters parallel fisheries; and (3) all entities operating vessels fishing for halibut inside 3 miles (5.6 km) of the shore (whether or not they have FFPs).

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual gross receipts not in excess of $11 million for all its affiliated operations worldwide.

Using the most recent data available (2022), the estimated number of directly regulated small entities includes approximately 677 individual CV and CP entities with gross revenues meeting the small entity criteria. This includes an estimated 674 small CV entities and 3 small CP entities in the GOA groundfish sector. The determination of entity size is based on vessel revenues and affiliated group revenues. This determination also includes an assessment of fisheries cooperative affiliations, although actual vessel ownership affiliations have not been completely established. However, the estimate of these 677 CVs and CPs may be an overstatement of the number of small entities because of the complexity of analyzing the linkages and affiliations across these vessels, particularly since many of them conduct operations in Federal and State fisheries. The CVs had average gross revenues that varied by gear type. Average gross revenues for hook-and-line CVs, pot gear CVs, and trawl gear CVs are estimated to be $450,000, $860,000, and $1.38 million, respectively. Average gross revenues for hook-and-line CPs and pot gear CPs are estimated to be $7.40 million and $6.87 million, respectively. Trawl gear CP entity revenue data are confidential.

This final rule contains no information collection requirements under the Paperwork Reduction Act of 1995.

This action implements the final 2024 and 2025 harvest specifications, apportionments, and halibut PSC limits for the groundfish fishery of the GOA. This action is necessary to establish harvest limits for groundfish during the 2024 and 2025 fishing years and is taken in accordance with the FMP prepared by the Council pursuant to the Magnuson-Stevens Act. The establishment of the final harvest specifications is governed by the Council and NMFS's harvest strategy for the catch of groundfish in the GOA. The harvest strategy was selected previously from among five alternatives, with the preferred alternative harvest strategy being one in which the TACs fall within the range of ABCs recommended through the Council harvest specifications process by the SSC. Under this preferred alternative harvest strategy, TACs are recommended to NMFS by the Council, utilizing recommendations from the AP, and are within the range of ABCs recommended by the SSC. The sum of the TACs must achieve the OY specified in the FMP. While the specific TAC numbers that the harvest strategy produces may vary from year to year, the methodology used for the preferred harvest strategy remains constant. This final action implements the preferred alternative harvest strategy previously chosen by the Council and NMFS to set TACs that fall within the range of ABCs recommended through the Council harvest specifications process and as recommended by the Council, after considerations from the Council's AP. This TAC determination method is consistent with previous years.

The final 2024 and 2025 TACs associated with preferred harvest strategy are those recommended by the Council in December 2023. OFLs and ABCs for the species were based on recommendations prepared by the Council's Plan Team, and reviewed and recommended by the Council's SSC. The Council based its TAC recommendations on those of its AP, and those recommendations are consistent with the SSC's OFL and ABC recommendations. The sum of all TACs remains within the OY for the GOA consistent with § 679.20(a)(1)(i)(B).

The final 2024 and 2025 OFLs and ABCs are based on the best available biological information, including projected biomass trends, information on assumed distribution of stock biomass, and revised technical methods to calculate stock biomass. The final 2024 and 2025 TACs are based on the best available biological and socioeconomic information. The final 2024 and 2025 OFLs, ABCs, and TACs are consistent with the biological condition of groundfish stocks as described in the 2023 SAFE report, which is the most recent, completed SAFE report, as well as the ecosystem and socioeconomic information presented in the 2023 SAFE report (including the GOA ESR). Accounting for the most recent information to set the final OFLs, ABCs, and TACs is consistent with the objectives for this action, as well as National Standard 2 of the Magnuson-Stevens Act (16 U.S.C. 1851(a)(2)) that actions shall be based on the best scientific information available. The SAFE report also includes information on the economic condition of the groundfish fisheries off Alaska through the Economic Status Report. Data are available through 2022.

Under this action, the final ABCs reflect harvest amounts that are less than the specified overfishing levels. The final TACs are within the range of final ABCs recommended by the SSC and do not exceed the biological limits recommended by the SSC (the ABCs and overfishing levels). For most species and species groups in the GOA, the Council recommended, and NMFS sets, final TACs equal to final ABCs, which is intended to maximize harvest opportunities in the GOA, unless other conservation or management reasons support setting TAC amounts less than the ABCs.

For the following species and species groups, the Council recommended, and NMFS sets, TACs that are less than the ABCs for pollock, Pacific cod, shallow-water flatfish in the Western GOA, arrowtooth flounder in the Western GOA and SEO District, flathead sole in the Western GOA, and other rockfish in the SEO District. These specific reductions were reviewed and recommended by the Council's AP, and the Council in turn adopted the AP's recommendations for the final 2024 and 2025 TACs.

Increasing TACs for some species may not result in increased harvest opportunities for those species. This is due to a variety of reasons. There may be a lack of commercial or market interest in some species. Additionally, there are fixed, and therefore constraining, PSC limits associated with the harvest of the GOA groundfish species that can lead to an underharvest of flatfish TACs. For this reason, the shallow-water flatfish, arrowtooth flounder, and flathead sole TACs in the Western GOA are set to allow for harvest opportunities for these target species while conserving the halibut PSC limit for use in other fisheries, including other groundfish fisheries or the halibut IFQ directed fishery. Similarly, the arrowtooth flounder TAC in the SEO District is set lower than ABC to conserve halibut PSC limit for use in other fisheries or because there is limited commercial interest in this fishery. The other rockfish TAC in the SEO District is set to support incidental catch in other fisheries. Finally, the TACs for two species (pollock and Pacific cod) cannot be set equal to ABC, as the TAC must be reduced to account for the State's GHLs in these fisheries. The W/C/WYK Regulatory Area pollock combined TAC and the GOA Pacific cod TACs are therefore set to account for the State's GHLs for the State waters pollock and Pacific cod fisheries so that the ABCs are not exceeded.

Based upon the best available scientific data, and in consideration of the Council's objectives of this action, there are no significant alternatives to the final rule that have the potential to accomplish the stated objectives of the Magnuson-Stevens Act and any other applicable statutes and that have the potential to minimize any significant adverse economic impact of the final rule on small entities. This action is economically beneficial to entities operating in the GOA, including small entities. The action specifies TACs for commercially valuable species in the GOA and allows for the continued prosecution of the fishery, thereby creating the opportunity for fishery revenue. After public process, during which the Council and NMFS solicited input from stakeholders, the Council concluded and NMFS likewise determines that these final harvest specifications would best accomplish the stated objectives articulated in the preamble for this final rule and in applicable statutes and would minimize to the extent practicable adverse economic impacts on the universe of directly regulated small entities.

Pursuant to 5 U.S.C. 553(d)(3), the Assistant Administrator for Fisheries, NOAA, finds good cause to waive the 30-day delay in the date of effectiveness for this rule because delaying this rule is contrary to the public interest. The Plan Team review of the 2023 SAFE report occurred in November 2023, and, based on the 2023 SAFE report, the Council considered and recommended the final harvest specifications in December 2023. Accordingly, NMFS's review of the final 2024 and 2025 harvest specifications could not begin until after the December 2023 Council meeting and after the public comment period closed on January 8, 2024.

For all fisheries not currently closed because the TACs established under the final 2023 and 2024 harvest specifications (88 FR 13238, March 2, 2023) have not yet been reached, it is possible that they would be closed prior to the expiration of a 30-day delayed effectiveness period, because those fisheries have nearly reached those previously set TACs. Some affected fisheries therefore could close soon, as they are already close to reaching their TACs, and such closures would cause unnecessary economic harm to the fisheries in the cases where this final rule increases some of the groundfish TACs. If implemented immediately, this final rule would allow these fisheries to continue fishing, because some of the new TACs implemented by this rule are higher than the TACs under which they are currently fishing.

In addition, immediate effectiveness of this action is required to provide consistent management and conservation of fishery resources based on the best available scientific information. This is particularly pertinent for those species that have lower 2024 ABCs and TACs than those established in the final 2023 and 2024 harvest specifications (88 FR 13238, March 2, 2023). If implemented immediately, this rule would ensure that NMFS can properly manage those fisheries for which this rule sets lower 2024 ABCs and TACs, which are based on the most recent biological information on the condition of stocks. The changes between the proposed 2024 ABCs and TACs are discussed earlier in the Changes from the Proposed 2024 and 2025 Harvest Specifications in the GOA section of this rule.

Certain fisheries, such as those for pollock, are intensive, fast-paced fisheries. Other fisheries, such as those for sablefish, flatfish, rockfish, Atka mackerel, skates, sharks, and octopuses, are critical either as directed fisheries or as incidental catch in other fisheries. Thus, for those species that have higher 2024 TACs than under the final 2023 and 2024 harvest specifications (88 FR 13238, March 2, 2023) than the TACs established by this final rule, there is some risk of exceeding these TAC limits. U.S. fishing vessels have demonstrated the capacity to catch the TAC allocations in many of these fisheries. If the date of effectiveness of this rule were to be delayed 30 days and a TAC was reached during those 30 days, NMFS would be required to close directed fishing or prohibit retention for the applicable species. Such closures and unnecessary discards would cause confusion to the industry and potential economic harm to fishermen, undermining the intent of this rule. Waiving the 30-day delay in the date of effectiveness allows NMFS to prevent this potential economic harm that could occur, should the previously set 2024 TACs (as set under the final 2023 and 2024 harvest specifications) be reached during such a delay. In addition, determining which fisheries may close in advance is nearly impossible because these fisheries are affected by several factors, including fishing effort, weather, movement of fishery stocks, and market price, which cannot be predicted. Furthermore, the closure of one fishery has a cascading effect on other fisheries; the closure would free up fishing vessels, allowing them to move from closed fisheries to open fisheries, thereby increasing the fishing capacity in those open fisheries, and potentially causing them to close sooner.

In fisheries subject to declining sideboard limits, a failure to implement the updated sideboard limits before the initial season's end could deny the intended economic protection to the sectors that do not have sideboards. Conversely, in fisheries with increasing sideboard limits, economic benefit could be denied to the sideboard-limited sectors.

If the final harvest specifications are not effective by March 15, 2024, which is the start of the 2024 Pacific halibut season as specified by the IPHC, the fixed gear sablefish fishery will not begin concurrently with the Pacific halibut IFQ season. This would result in confusion for the industry and economic harm from unnecessary discard of sablefish that are caught along with Pacific halibut, as both fixed gear sablefish and Pacific halibut are managed under the same IFQ program. Immediate effectiveness of these final 2024 and 2025 harvest specifications will allow the sablefish IFQ fishery to begin concurrently with the Pacific halibut IFQ season.

Finally, immediate effectiveness also provides the fishing industry the earliest possible opportunity to plan and conduct its fishing operations with respect to new information about TACs. Therefore, in accordance with 5 U.S.C. 553(d)(3), NMFS finds good cause to waive the 30-day delay in the date of effectiveness for this rule.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The tables contained in this final rule are provided online and serve as the plain language guide to assist small entities in complying with this final rule as required by the Small Business Regulatory Enforcement Fairness Act of 1996. This final rule's primary purpose is to announce the final 2024 and 2025 harvest specifications and prohibited species bycatch allowances for the groundfish fisheries of the GOA. This action is necessary to establish harvest limits and associated management measures for groundfish during the 2024 and 2025 fishing years, and to accomplish the goals and objectives of the FMP. This action affects all fishermen who participate in the GOA fisheries. The specific OFL, ABC, TAC, and PSC amounts are provided in tables in this final rule to assist the reader. This final rule also contains plain language summaries of the underlying relevant regulations supporting the harvest specifications and the harvest of groundfish in the GOA that the reader may find helpful.

Information to assist small entities in complying with this final rule is provided online. The OFL, ABC, TAC, and PSC tables are individually available online at https://www.fisheries.noaa.gov/alaska/sustainable-fisheries/alaska-groundfish-harvest-specifications. Explanatory information on the relevant regulations supporting the harvest specifications is also found in footnotes to the tables. Harvest specification changes are also available from the same online source, which includes applicable Federal Register notices, information bulletins, and other supporting materials. NMFS will announce closures of directed fishing in the Federal Register and information bulletins released by the Alaska Region. Affected fishermen should keep themselves informed of such closures.

Authority: 16 U.S.C. 773 et seq.; 16 U.S.C. 1540(f), 1801 et seq.; 16 U.S.C. 3631 et seq.; Pub. L. 105-277; Pub. L. 106-31; Pub. L. 106-554; Pub. L. 108-199; Pub. L. 108-447; Pub. L. 109-241; Pub. L 109-479.

Dated: February 28, 2024.
Samuel D. Rauch, III,
Deputy Assistant Administrator for Regulatory Programs, National Marine Fisheries Service.

[FR Doc. 2024-04516 Filed 3-1-24; 8:45 am]

BILLING CODE 3510-22-P